DEPARTMENT OF COMMERCE

National Oceanic and Atmospheric Administration

50 CFR Parts 600 and 660

[Docket No.; I.D. 121500E]

RIN 0648-AN82

Magnuson-Stevens Act Provisions; Fisheries off West Coast States and in the Western Pacific; Pacific Coast Groundfish Fishery; Annual Specifications and Management Measures

AGENCY: National Marine Fisheries Service (NMFS), National Oceanic and Atmospheric Administration (NOAA), Commerce.

ACTION: 2001 groundfish fishery specifications and management measures; announcement of the overfished status of darkblotched and widow rockfish; announcement of exempted fishing permits; request for comments.

SUMMARY: NMFS announces the 2001 fishery specifications and management measures for groundfish taken in the U.S. exclusive economic zone (EEZ) and state waters off the coasts of Washington, Oregon, and California. The specifications include the levels of the acceptable biological catch (ABC) and optimum yields (OYs). The commercial OYs (the OYs reduced by expected discard and by amounts expected to be taken in tribal, recreational, and compensation fisheries) are allocated between the limited entry and open access fisheries. The management measures for 2001 are designed to keep landings within the OYs for those species for which there are OYs and to achieve the goals and objectives of the Pacific Coast Groundfish Fishery Management Plan (FMP) and associated rebuilding plans for overfished stocks, consistent with the requirements of the Magnuson Stevens Fishery Conservation and Management Act (Magnuson-Stevens Act) and the guidelines based on the National Standards in the Magnuson-Stevens Act published in the Federal Register on May 1, 1998. These management measures are intended to prevent overfishing and to rebuild Pacific Coast groundfish stocks. These measures are also intended to achieve as much harvest of healthier stocks as possible given the conservation requirements of the Magnuson-Stevens Act.

DATES: Effective 0001 hours local time (l.t.) January 5, 2001, until the 2002 annual specifications and management measures are effective, unless modified, superseded, or rescinded. The 2002 annual specifications and management measures will be published in the Federal Register. Comments must be received no later than 5:00 p.m, l.t., on February 12, 2001.

ADDRESSES: Written comments on these actions must be mailed to Donna Darm, Acting Administrator, Northwest Region (Regional Administrator), NMFS, 7600 Sand Point Way N.E., BIN C15700, Bldg. 1, Seattle, WA 98115-0070, or faxed to 206-526-6736; or Rebecca Lent, Administrator, Southwest Region, NMFS, 501 West Ocean Blvd., Suite 4200, Long Beach, CA 90802-4213, or faxed to 562-980-4047. Comments will not be accepted if submitted via e-mail or Internet. Information relevant to these specifications and management measures, which includes an environmental assessment/regulatory impact review (EA/RIR) and the stock assessment and fishery evaluation (SAFE) report, is available for public review during business hours at the offices of the NMFS Northwest Regional Administrator and the NMFS Southwest Regional Administrator, or may be obtained from the Pacific Fishery Management Council (Council), at 2130 SW Fifth Avenue, Suite 224, Portland, OR 97201, phone: 503-326-6352. Additional reports referred to in this document may also be obtained from the Council.

Send comments regarding the reporting burden estimate or any other aspect of the collection-of-information requirements in this final rule, including suggestions for reducing the burden, to one of the NMFS addresses and to the Office of Management and Budget (OMB), Washington, D.C. 20503 (ATTN: NOAA Desk Officer). Send comments regarding any ambiguity or unnecessary complexity arising from the language used in this rule to Donna Darm or Rebecca Lent.

FOR FURTHER INFORMATION CONTACT: Yvonne deReynier or Becky Renko (Northwest Region, NMFS), phone: 206-526-6140; fax: 206-526-6736 and; e-mail: yvonne.dereynier@noaa.gov, becky.renko@noaa.gov or Svein Fougner (Southwest Region, NMFS) phone: 562-980-4000; fax: 562-980-4047 and; e-mail: svein.fougner@noaa.gov.

SUPPLEMENTARY INFORMATION:

Electronic Access

This Federal Register rule also is accessible via the Internet at the Office of the Federal Register's website at http://www.access.gpo.gov/su--docs/aces/aces140.html. Background information and documents are available at the NMFS Northwest Region website at http://www.nwr.noaa.gov/1sustfsh/gdfsh01.htm and at the Council’s website at http://www.pcouncil.org.

Background

The FMP requires that fishery specifications for groundfish be evaluated and revised, as necessary, each calendar year, that OYs be specified for species or species groups in need of additional protection, and that management measures designed to achieve the OYs be published in the Federal Register and made effective by January 1, the beginning of the fishing year. The Magnuson-Stevens Act and the FMP require that NMFS implement actions to prevent overfishing and to rebuild overfished stocks. This action announces and makes effective the final 2001 fishery specifications and the management measures that are designed to rebuild overfished stocks through constraining direct and incidental mortality, to prevent overfishing, and to achieve as much of the OYs as practicable for healthier groundfish stocks managed under the FMP. These final specifications and management measures were considered by the Council at two meetings and were recommended to NMFS by the Council at its November 2000 meeting in Vancouver, WA.

I. Final Specifications

The fishery specifications include ABCs, the designation of OYs, which may be represented by harvest guidelines (HGs) or quotas for species that need individual management, and the allocation of the commercial OYs between the open access and limited entry segments of the fishery. These specifications include fish caught in state ocean waters (0-3 nautical miles (nm) offshore) as well as fish caught in the EEZ (3-200 nm offshore). The OYs and ABCs recommended by the Council and announced in this document are consistent with the Magnuson-Stevens Act, the groundfish FMP, the rebuilding plans initially approved by NMFS in 2000 (lingcod, bocaccio, and Pacific ocean perch (POP)), and the rebuilding plans (canary rockfish and cowcod) adopted by the Council at its November 2000 meeting. In a separate Federal Register document, NMFS will announce the availability of canary rockfish and cowcod rebuilding plans for public review.

BILLING CODE 3510-22-S

BILLING CODE 3510-22-C

ABC Policy and Overfishing

The Magnuson-Stevens Act requires the FMP to prevent overfishing. Overfishing is defined in the guidelines based on the Magnuson-Stevens Act National Standards for implementing the Magnuson-Stevens Act (63 FR 24212, May 1, 1998) as exceeding the fishing mortality rate (also known as the “exploitation rate”) needed to produce the maximum sustainable yield (Fmsy). In 2001 as in 2000, the Council continued its use of default exploitation rates as a proxy for Fmsy. Thus, the 2001 ABCs are set at the maximum sustainable yield (MSY) proxy. The OYs are set at levels that are expected to prevent overfishing, i.e., levels equal to or less than the ABCs, according to the Council’s default OY policy (described later in this document).

In spring 2000, the Council’s Scientific and Statistical Committee (SSC) sponsored a workshop to review the Council’s groundfish exploitation rate policy. The workshop explored the historic use of different fishing mortality (F) rates, and found that the Council’s past practices have generally changed in correlation with new information from and perceptions within the scientific community. An F rate that is sustainable over time would provide a relatively constant annual rate of harvest, yet would allow the stock to maintain itself, accounting for reproduction and natural mortality. Starting in the early 1990s, the Council used a standard harvest rate of F35%, which is the F rate that reduces spawning potential per recruit to 35 percent of the unfished stock’s spawning potential per recruit. (Usually the size of a stock’s biomass is discussed in terms of spawning potential.) Reducing the spawning potential per recruit is not the same thing as reducing the overall population size to 35 percent of the unfished population size.

A fishing rate of F35% can mean very different things for different stocks because it is a relationship dependent on the productivity of a particular stock. Highly productive stocks have individuals that reach maturity quickly and produce many young that then survive to an age when they are large enough to be caught in the fishery (recruitment). These stocks may be fished at F35% and have a higher percent of the total adult population harvested each year than a less productive stock fished at F35%. Harvest rate policies must account for several complicating factors, including the age and size at which individuals in a stock reach maturity, the relative fecundity of mature individuals over time, and the optimal stock size for the highest level of productivity within that stock.

The SSC’s workshop participants reported that new scientific studies in 1998 and 1999 had shown that the F35% and F40% rates used by the Council had been too aggressive for Pacific coast groundfish stocks, such that some groundfish stocks could not maintain a viable population over time. A 1999 study, “The Meta-Analysis of the Maximum Reproductive Rate for Fish Populations to Estimate Harvest Policy; a Review” (Myers, et al.) showed that Pacific coast groundfish stocks, particularly rockfish, have very low productivity compared to other, similar species worldwide. One prominent theory about the reason for this low productivity is the large-scale, North Pacific climate shifts that are thought to cycle Pacific coast waters through warm and cool phases of 20-30 years duration. Pacific coast waters shifted to a warm phase around 1977-78, with ocean conditions less favorable for Pacific coast groundfish and other fish stocks.

After an intensive review of historic harvest rates, and current scientific literature on harvest rates and stock productivity, the SSC workshop concluded that F40% is too aggressive for many Pacific coast groundfish stocks, particularly for rockfish. For 2001 and beyond, the Council adopted the SSC’s new recommendations for harvest policies of: F40% for flatfish and whiting, F50% for rockfish (including thornyheads) and F45% for other groundfish such as sablefish and lingcod. The Council also adopted a more precautionary OY policy for stocks with less rigorous stock assessments. In previous years, Council policy had been to assume that fishing mortality on these stocks was 75 percent of total mortality (fishing mortality + natural mortality). Based on SSC recommendations, the Council reaffirmed this policy, but added another precautionary adjustment, requiring that OYs for these stocks be set at 75 percent of ABCs. These changes toward more conservative harvest rates have resulted in lower ABCs and OYs for many stocks in 2001 than in 2000 (see footnotes for Table 1).

The 2001 ABCs, which are based on the best available scientific information, available include both landed catch and estimated discards, to represent total fishing mortality. ABCs apply only to U.S. waters where the assessments included Canadian waters. Stock assessment information considered in determining the ABCs is available from the Council and was made available to the public before the Council's November 2000 meeting, in stock assessment documents and reports, which are compiled into the Council's SAFE document (see ADDRESSES). Additional information is found in the EA prepared by the Council for this action, in the SAFE document for the 2001 specifications, and in documents available at the September and November 2000 Council meetings.

Default OY Policy

In 1999, the Council adopted a “40-10 precautionary policy” for setting OY that is intended to prevent species from becoming overfished. A stock that is at 40 percent of its unfished biomass is said to be at B40%. Bmsy is the stock biomass level required to achieve MSY. The Council uses B40% as as a default proxy for Bmsy for stocks with an unknown Bmsy.

According to the Council’s OY policy, if the stock biomass is larger than Bmsy, the OY may be set equal to or less than ABC. A stock with a current biomass between 25 percent of the unfished level and Bmsy (the precautionary threshold) is said to be in the “precautionary zone.” The Council's default OY harvest policy reduces the fishing mortality rate when a stock is at or below its precautionary threshold. The further the stock is below the precautionary threshold, the greater the reduction in OY will be relative to the ABC, until, at B10%, the OY would be set at zero. This is, in effect, a default rebuilding policy that will foster quicker return to the Bmsy level than would fishing at the ABC level. However, the Council may recommend setting the OY higher than the default OY harvest policy specifies, if justified, and as long as the OY does not exceed the ABC (Fmsy) harvest rate and is consistent with the requirements of the Magnuson-Stevens Act and complies with the National Standard Guidelines. Additional precaution may be added on a case-by-case basis at any level of current biomass that may be warranted by uncertainty in the data or by higher risks of being overfished.

If a stock falls below 25 percent of its unfished biomass (B25%), it is considered overfished, and the Magnuson-Stevens Act requires the Council to develop a rebuilding plan within 1 year. Rebuilding plans for overfished species have stock-specific allowable harvest rates, although those rates may still be consistent with this “40-10 default OY” policy.

2001 ABCs and OYs

The species that had ABCs and OYs in 2000 continue to have ABCs and OYs in 2001. New assessments were completed and ABCs and OYs were developed for darkblotched rockfish, widow rockfish, yellowtail rockfish, POP in the Vancouver and Columbia areas, and for lingcod, for which separate ABCs were calculated for the northern (Vancouver-Columbia) and southern (Eureka-Monterey-Conception) areas based on a coastwide assessment.

Five groundfish stocks have been designated as “overfished”: POP, bocaccio (S. paucispinis), lingcod, canary rockfish (S. pinniger), and cowcod (S. levis). The OYs for overfished species have been set to be consistent with the rebuilding plans for those species. In 2001, two additional species, darkblotched and widow rockfish, will be designated as overfished. The OYs for darkblotched and widow rockfish are set at extremely low levels in anticipation of the rebuilding plans that will be required in 2002. In order to reduce associated harvest of bocaccio, the chilipepper OY is reduced by almost 25 percent.

Minor rockfish OYs are subdivided into nearshore (shallowest), shelf, and slope (deepest) categories, according to the approximate depths where those species are caught. This separation results in six distinct OYs for minor rockfish, north and south of 40°10' N. lat. For species that have rudimentary or no assessments, precautionary adjustments to the OYs continue to be made as in 2000. The 40-10 harvest policy continues to be used for assessed stocks where the biomass is estimated to be between 25 and 40 percent of the unfished biomass. Minor rockfish OYs and allocations are incorporated in Table 1a by category. Rockfish species in the nearshore, shelf, and slope categories are listed in paragraph IV.A.(21) and minor rockfish species are listed in Table 2.

As a result of the constraining management measures imposed to protect and rebuild overfished species, a number of the OYs may not be achieved in 2001, particularly for those shelf rockfish species that are not overfished but that are caught with species that are overfished. It is difficult to forecast what the actual catch of these relatively healthy species will be, but to lower the OYs for these species could unnecessarily constrain the fishery.

Several changes were made during 2000 that affect the ABCs and OYs for 2001: (1) Adoption of new default harvest rates with the default Fmsy proxy of F50% for rockfish and F40% for Pacific whiting and flatfish, and F45% for other groundfish species, resulting in lower harvest recommendations for many species; (2) the use of Experimental Data Collection Program (EDCP) data to derive new discard rates for shortspine (20 percent) and longspine thornyhead (17 percent), and new sector specific discard rates for sablefish north of 36° N. lat. that affect the landed catch OY; (3) completion of a new assessment for darkblotched rockfish, which raised uncertainty about historical catch during the 1960s and 1970s, resulting in an ABC range with the lower ABC based on the assumption that 10 percent of the historical red rockfish catch in foreign fisheries was darkblotched rockfish and the upper ABC based on the assumption that 0 percent was darkblotched; and (4) Adoption by the Council of rebuilding plans for canary rockfish and cowcod.

In 2001, as in 2000, unless otherwise specified, OYs and allocations represent total catch, and, where possible, the expected landed catch equivalent is calculated. This approach provides greater management flexibility if new information becomes available inseason because managers will then be able to modify discard estimates and management measures inseason. Derivations of the ABCs and OYs for the individual groundfish species are explained in detail in Council documents from their September 2000 and November 2000 meetings, and in the Council's SAFE document (which includes the most recent stock assessments) and are summarized in this document in Table 1a. Derivations of commercial HGs, limited entry and open access allocations, and landed catch equivalents appear in the footnotes to Table 1a, listed at the end of Table 1b.

Management measures designed to rebuild overfished species, or to prevent overfishing or to prevent a species from becoming overfished may restrict the harvest of relatively healthy stocks that are harvested with the overfished species. Consequently, fishers may not be allowed to harvest the entire OYs of these associated healthy stocks.

Determinations of Overfished Stock Status and Rebuilding Plans

The status of the resource is evaluated against the requirements of the Magnuson-Stevens Act, the guidelines based on the National Standards, and the FMP. A species is overfished if its current biomass is less than 25 percent of the unfished biomass level. The Magnuson-Stevens Act requires that a rebuilding plan be prepared within one year after the Council is notified that the species is overfished.

Requirements for developing overfished species rebuilding plans are addressed in Amendment 12 to the FMP, which NMFS approved on December 7, 2000. Before Amendment 12 was submitted for public review (September 8, 2000, 65 FR 54475), NMFS had approved the Council’s first three rebuilding plans for lingcod, bocaccio, and POP (September 5, 2000, 65 FR 53646). During NMFS review of Amendment 12, the agency considered whether these three rebuilding plans met the requirements of Amendment 12 and concluded that they did not. The revocation of NMFS’ prior approval of the three rebuilding plans was described in the final rule to implement Amendment 12 (65 FR 82947 December 29, 2000). NMFS determined that while the three rebuilding plans specify adequately protective harvest limits for these three species, the rebuilding plans did not meet all of the rebuilding plan content requirements described in Amendment 12. The groundfish fisheries will continue to operate under measures implementing the rebuilding plans for lingcod, bocaccio, and POP in 2001. However, NMFS has instructed the Council to re-submit rebuilding plans for these three species by January 1, 2002. NMFS has also notified the Council via this Federal Register document that two additional species (dark blotched rockfish and widow rockfish) are overfished and that the Council must submit rebuilding plans for these two species within a year of this notification.

For 2001, the bocaccio OY is set at 100 mt, consistent with its initial rebuilding plan. The initial POP rebuilding plan indicated that the stock was at 13 percent of its unfished biomass, and that with an initial annual harvest of about 300 mt, the stock could be rebuilt to Bmsy within 47 years. A new POP stock assessment in 2000 estimated that the POP stock may be more abundant than suggested by the stock’s 1998 assessment, which had led to the designation of POP as overfished. The 2000 assessment indicates that the POP stock is no longer below the overfished threshold, and that it may be possible to rebuild POP to Bmsy within 10 years. Although the new stock assessment supports a higher annual harvest than specified in the rebuilding plan, the SSC recommended that the Council continue to set the OY consistent with the current rebuilding plan in 2001, and re-evaluate the rebuilding scenario for 2002. The Council concurred with the SSC, and recommended an OY of 303 mt for 2001, in keeping with the initial POP rebuilding plan.

Lingcod also underwent a new, coastwide assessment in 2000. Previously, separate lingcod assessments had been done for waters north and south of Cape Blanco, with most efforts concentrated in the north. The lingcod rebuilding plan and last year’s harvest management were based on a 1997 northern area assessment and an initial southern area assessment in 1999. Because of the strong history of northern area assessments and the newness of the southern area assessment, the lingcod rebuilding plan applied precautionary exploitation rates from the northern stock to the southern area biomass to set a southern ABC. For 2000, the lingcod ABCs were 450 mt in the north and 250 mt in the south, and the combined coastwide OY was 378 mt. An OY of 378 mt was set by using a constant exploitation rate that was estimated to provide a 60 percent likelihood that lingcod stocks would rebuild to Bmsy within 10 years. The initial rebuilding plan recognized that a new assessment of the entire coastwide stock was scheduled for 2000, and the Council would use the results to make any necessary adjustments for the 2001 fishing year.

While the lingcod rebuilding plan formally began in 2000, the Council had set fairly low lingcod OYs in several years prior to 2000. The 2000 lingcod stock assessment determined that lingcod stocks have responded favorably to earlier rebuilding efforts. Current assessment results show a higher spawning biomass than seen in the 1997 assessment, which is partially responsible for the higher northern lingcod ABC in 2001. The 2000 lingcod assessment finalized and updated information from the southern area to show that although southern area stocks are below the overfished threshold, they are not as depleted as the northern area stocks. Washington Department of Fish and Wildlife (WDFW) has extensive involvement in lingcod assessments, and for the 2000 assessment, that agency conducted an exhaustive analysis of its historic lingcod aging methods. WDFW improved and updated its aging methods, and found that the new methods showed a younger and more productive stock than portrayed in earlier assessments for the northern area. For 2001, the northern ABC is 610 mt and the southern ABC is 509 mt. The combined coastwide lingcod OY is 611 mt, which is the harvest level derived from a constant exploitation rate that is expected to have a 60-percent likelihood of rebuilding the stock to Bmsy within 9 years. Thus, although the lingcod OY was increased in 2001, the harvest parameters are in keeping with the initial lingcod rebuilding plan.

In the 2000 annual specifications and management measures document, NMFS announced its determination that two additional species were considered overfished: canary rockfish and cowcod (January 4, 2000, 65 FR 221). The Council prepared rebuilding plans for these two species and will submit those rebuilding plans for NMFS review in January 2001. After receipt of these plans, NMFS will publish a Notice of Availability in the Federal Register with a 30-day public comment period before making a decision to either approve or disapprove the rebuilding plans. Rebuilding measures for all five overfished species, plus preliminary rebuilding measures for darkblotched and widow rockfish, are included in the 2001 management measures.

The Council approved a canary rockfish rebuilding plan and 2001 OY that will limit total coastwide harvest of the canary rockfish stock to 93 mt annually for the next 2 years. This plan envisions a 57-year rebuilding period, although the actual length of time to rebuild the stock depends on its future reproductive successes and annual catch levels. The adopted rebuilding period and 2001 OY are based on a constant annual catch and a precautionary assumption about the stock’s relative reproductive success. At the September meeting, the Council considered a more pessimistic recruitment forecast that would have resulted in an annual OY of 60 mt. An analysis in September-October of the regulations that would be needed to achieve this lower OY revealed that virtually all commercial fishing for groundfish and much commercial fishing for non-groundfish species on the continental shelf would have to be eliminated. Complete closure of these commercial fisheries would have had dramatic adverse economic effects on fishing industries and communities. Moreover, such a closure would have created a significant allocation problem between the recreational and commercial sectors that would have been difficult to address in such a short period of time.

After consulting with the canary rockfish stock assessment scientist at its November meeting, the Council adopted a slightly less pessimistic forecast for recent recruitment, which yielded an annual OY of 93 mt. However, the Council took a precautionary stance and adopted the OY for only the next 2 years. During that time, NMFS will conduct another survey of the groundfish resources. This survey is expected to produce information directly relevant to the uncertainty regarding recent recruitment. The new information will be incorporated into an updated stock assessment in 2002, and the canary rockfish OY will be subsequently adjusted to meet rebuilding targets. The rebuilding plan calls for annual review of the various fisheries that take canary rockfish, and includes a mandatory review of the entire plan after two years. Moreover, the plan requires the Council to consider all sources of canary rockfish fishing mortality in order to reduce the effect of the fisheries on the stock, including bycatch in the Pacific whiting, fishery, salmon troll, and pink shrimp fishery.

In order to achieve the OY called for by canary rockfish rebuilding, the Council is controlling incidental catch of canary rockfish, rather than allocating directed harvest of canary rockfish. Adhering strictly to the open access/limited entry allocation of canary rockfish that was established under the limited entry program (Amendment 6 to the FMP) does not allow this flexibility. However, Amendments 12 and 13 to the groundfish plan, which were approved in December 2000, recognize that adhering to these allocations may not be appropriate or possible for fisheries being rebuilt, and authorize deviation from these allocations during the rebuilding period. In order to meet canary rockfish rebuilding goals while equitably distributing the adverse effects of rebuilding among the fleets, the Council has recommended suspending the open access/limited entry allocation for canary rockfish. The Council has not set a specific open access/limited entry canary rockfish allocation, but instead has crafted the most reasonable set of management measures to achieve rebuilding. Taking these steps to begin rebuilding is particularly appropriate for canary rockfish, which is taken incidentally in several state-managed, open access fisheries, such as the pink shrimp trawl fishery and the salmon troll fishery. The Council does not directly control the amount of canary rockfish taken (although it does control the amount landed) in the state-managed fisheries.

The Council's rebuilding measures for canary rockfish and cowcod and the ABCs, OYs, and management actions recommended for 2001 are consistent with the FMP and the canary rock and cowcod rebuilding plans. The draft rebuilding plans endorsed by the Council are summarized as follows:

Canary Rockfish

Areas: coastwide

Status of stock: 8 to 22 percent of unfished biomass.

Maximum allowable years to rebuild to MSY: 58 years

Probability of rebuilding to MSY biomass in 57 years: 52 percent

Expected time to rebuild: 57 years.

Fmsy proxy: F50%

ABC in 2001: 228 mt

OY in 2001: 93 mt

Management measures for 2001: Canary rockfish are primarily a shelf rockfish species, but may also move into deeper waters as they age, commonly ranging from 25 fathoms (60.96 m) to 250 fathoms (609.6 m). Historic fisheries for canary rockfish have been concentrated in waters of 50-150 fathoms depth. Their range is from the northern Baja California waters to the western Gulf of Alaska, and they may be caught either in large pelagic schools or dispersed along the rocky bottom. The large range and varied habits of canary rockfish make selecting rebuilding measures particularly difficult. Canary rockfish are caught either directly or incidentally in most West Coast groundfish fisheries. Of the 93 mt OY, 5 mt are reserved for harvest associated with scientific research, 44 mt are expected to be taken in the recreational fisheries, and 44 mt are expected to be taken as incidental catch in the commercial fisheries.

In California and Oregon recreational fisheries, the rockfish bag limit is 10 fish, no more than 1 of which may be canary rockfish; off Washington the bag limit is 10 fish, no more than 2 of which may be either canary rockfish or yelloweye rockfish. California recreational fisheries will also close for 2 months (January-February) south of Point Conception (and possibly 2 months at the end of the year), and for 4 months (January-April) between Point Conception and Cape Mendocino, with some fishing allowed shoreward of the 20-fathom depth contour. Historically, the bulk of the recreational canary rockfish landings have been made in California. Commercial fisheries for groundfish and for non-groundfish species that co-occur with canary rockfish have been restricted to minimize the incidental catch of canary rockfish. California hook-and-line commercial fisheries are closed during the same periods and in the same areas as the recreational fisheries. Moreover, new landings limits are introduced for the summer flatfish and mid-water yellowtail rockfish fisheries to reduce opportunities for incidental canary rockfish interception, and opportunities for fishing with large footrope bottom trawl gear are severely restricted. In the first few months of 2001, the states will be working with their shrimp trawl industry on using fish excluder devices to reduce incidental canary harvest in that fishery.

Cowcod

Areas: Point Conception to the U.S.-Mexico boundary.

Status of stock: 4-11 percent of unfished biomass.

Maximum allowable years to rebuild to MSY: 98.

Probability of rebuilding to MSY biomass in 98 years: 55 percent

Expected time to rebuild: 95

Fmsy proxy: F50%

ABC in 2001: 5 mt.

OY in 2001: 2.4 mt.

Management measures: Cowcod is a sedentary shelf rockfish species that ranges from waters off Washington state southward to Mexico, with several concentrated areas of abundance in waters around some of the islands and offshore banks of the Southern California Bight. Cowcod is one of the largest West Coast rockfishes, growing to 37 inches (95 cm), making it a prized recreational fisheries target. In commercial fisheries, cowcod is usually caught incidentally to other species, as it occurs too infrequently to target efficiently. All directed cowcod fishing opportunities have been eliminated in 2001. Retention of cowcod is prohibited for all commercial and recreational fisheries. To protect cowcod from incidental harvest, the Council has recommended two Cowcod Conservation Areas (CCAs) (the Eastern CCA and the Western CCA) in the Southern California Bight, delineated to encompass key cowcod habitat areas and known areas of high catches. Fishing for groundfish is prohibited within the CCAs, except that minor nearshore rockfish, cabezon, and greenling may be taken from waters where the bottom depth is less than 20 fathoms (36.9 m). A transportation corridor is provided through the Western CCA to allow commercial vessels fishing for slope rockfish and other groundfish west of the Western CCA to transport that groundfish through the Western CCA. The Western CCA is an area south of Point Conception that is bound by straight lines connecting the following points in the order listed:

33°50' N. lat., 119°30' W. long.;

33°50' N. lat., 118°50' W. long.;

32°20' N. lat., 118°50' W. long.;

32°20' N. lat., 119°30' W. long.;

33°00' N. lat., 119°30' W. long.;

33°00' N. lat., 119°50' W. long.;

33°30' N. lat., 119°50' W. long.;

33°50' N. lat., 119°30' W. long.

The transit corridor through the Western CCA is bounded on the north by the latitude line at 33°00'30” N. lat., and on the south by the latitude line at 32°59'30” N. lat.

The Eastern CCA is a smaller area west of San Diego that is bound by straight lines connecting the following points in the order listed:

32°40' N. lat., 118°00' W. long.;

32°40' N. lat., 117°50' W. long.;

32°30' N. lat., 117°50' W. long.;

32°40' N. lat., 118°00' W. long.

Overfishing

None of the 2001 ABCs are knowingly set higher than Fmsy or its proxy, none of the OYs are set higher than the corresponding ABCs, and the management measures herein are designed to keep harvest levels within specified OYs.

After the 1999 fishing season, NMFS determined that overfishing had occurred on three species of rockfish in that year: darkblotched rockfish, silvergrey rockfish, and yelloweye rockfish. Changes to the rockfish management structure in 2000 that divided minor rockfish into three species groups (nearshore, shelf, slope) were partially intended to ensure that those species would not be subject to overfishing harvest rates in 2000. The Council also adopted a policy for the 2000 specifications that had reduced ABCs by 25 percent to determine OYs for those species with less rigorous stock assessments, and by 50 percent to determine OYs for those species with no stock assessment. These policies are continued in 2001.

Overfishing is difficult to detect inseason for many rockfish, particularly these minor rockfish species, because most are not individually identified on landing. Species compositions, based on proportions encountered in samples of landings, are applied during the year. However, final results are not available until after the end of the year.

Bycatch and Discards

The Magnuson-Stevens Act defines bycatch as “fish which are harvested in a fishery, which are not sold or kept for personal use, and include economic discards and regulatory discards.” In the Pacific Coast groundfish fishery and in many other fisheries, the term bycatch is commonly used to describe nontargeted species that are landed and sold or used. The term “discard” is used to describe those fish harvested that are neither landed nor used.

Groundfish management measures include provisions to reduce trip limit-induced discards and to account for those discards when setting ABCs and monitoring harvest levels. Discard rates are used to calculate an amount of assumed discard that is subtracted from the annual total catch OY to yield a landed catch equivalent. Although there is no exact measure of discard amounts in most fisheries, the assumed amounts are taken into account to prevent total harvest from exceeding the ABC. Certain species are also managed within mixed-stock groups, like the “DTS complex” of Dover sole, thornyheads, and sablefish. For groundfish multispecies management, trip limits are set to match the known species catch proportions, which may mean reducing trip limits on some of the more abundant species to reduce discards of less abundant species, or setting trip limits at levels that vary throughout the year according to when particular stocks are most aggregated.

Stock assessments and inseason catch monitoring are designed to account for all fishing mortality, including that resulting from fish discarded at sea. Discards in the fishery for whiting are well monitored and are accounted for inseason as they occur. In the other fisheries, discards caused by trip limits have not been monitored consistently, so discard estimates have been developed to account for this extra catch. A discard level of 16 percent of the total catch, previously measured for widow rockfish in a scientific study, is assumed for the commercial fisheries for widow rockfish, yellowtail rockfish, canary rockfish, and POP.

For 2001 fisheries, NMFS analyzed the results of the 1995 through 1998 EDCP, in which trawl vessels voluntarily fished for groundfish and either carried observers or completed detailed catch and discard logbooks. NMFS determined that EDCP data could provide a useful update for discard estimates applied to the “DTS complex.” Dover sole discard had been estimated at 5 percent of its total catch OY in 2000 and prior years, and data from the EDCP confirmed that estimate. Thornyhead discard estimates changed, however, from 9 percent to 17 percent of total catch OY for longspine thornyhead, and from 30 percent to 20 percent of total catch OY for shortspine thornyhead.

Sablefish is the fourth species in the DTS complex, and the only species in the complex with sector-specific allocations. In 2000 and prior years, an estimate of 10-percent discard had been taken off the top of the sablefish total catch OY before allocating the remaining catch between sectors. For 2001, the Council recommended first allocating the total catch OY between fishery sectors, and then applying sector-appropriate discard rates to each sector. Tribal sablefish longline fisheries were allocated 10 percent of the total catch OY (690 mt,), and then were discounted 3 percent of that allocation for discards, for a landed catch allocation of 669 mt. The remaining 90 percent (6,205 mt) of the total catch OY was discounted 24 mt for research, then divided between the open access (9.4 percent of the non-tribal OY, or 581 mt) and limited entry fisheries (90.6 percent of the non-tribal OY, or 5,600 mt). Open access sablefish fisheries are primarily hook-and-line daily trip limit fisheries, with an estimated discard rate of 8 percent, making the open access landed catch allocation 535 mt. The limited entry allocation is divided between the trawl sector (58 percent, or 3,248 mt) and the fixed gear sector (42 percent or 2,352 mt). EDCP data provided a trawl sector discard estimate of 22 percent, reducing the trawl landed catch allocation to 2,533 mt. The limited entry, fixed gear fishery lands most of its sablefish in a brief derby with few discard opportunities, similar to the tribal sablefish fisheries. Thus, the limited entry, fixed gear sablefish discard estimate is also 3 percent, reducing the allocation for that sector to 2,281 mt.

On December 21, 2000, NMFS approved Amendment 13 to the FMP. The amendment was intended to respond to Magnuson-Stevens Act bycatch provisions. NMFS published a proposed rule to implement Amendment 13 on November 21, 2000 (65 FR 69898), which included a full retention program for the at-sea whiting fisheries and changes to the annual management measures framework to allow better protection of overfished species from incidental catch. NMFS will soon publish a final rule that will create a regulatory framework for an observer program in the shore-based groundfish fisheries. In early 2001, the agency will be working with the three West Coast states and the interested public to develop an observer coverage plan for the purpose of gathering total catch information. NMFS hopes to place observers on groundfish vessels in summer/fall 2001. All of these efforts are expected to improve and update discard information, data on mixed-stock complex compositions, and background data for stock assessments.

II. Limited Entry and Open Access Fisheries

The FMP established a limited entry program that, on January 1, 1994, divided the commercial groundfish fishery into the limited entry and open access sectors, each with its own allocations and management measures. Limited entry and open access allocations are calculated according to a formula specified in the FMP, which takes into account the relative amounts of a species taken by each component of the fishery during the 1984-1988 limited entry window period.

Groundfish species that had limited entry and open access allocations in 2000 continue to be allocated between the two sectors in 2001. As explained earlier in the section on rebuilding plans, the limited entry/open access allocation for canary rockfish is being suspended during the rebuilding period as necessary in order to allow the Council the flexibility to develop management measures to allow access to healthy stocks while protecting canary rockfish. All OYs, and all limited entry and open access allocations are expressed in terms of total catch. In 2001, as in 2000, estimates of trip-limit induced discards that previously were taken “off the top” before setting the limited entry and open access allocations, will instead be deducted only from the limited entry allocations for purposes of estimating the landed catch equivalents. Estimates of discards will be applied separately inseason to the limited entry and open access allocations as data become available. Landed catch equivalents are the harvest goals used when adjusting trip limits and other management measures during the season. Estimated bycatch of yellowtail rockfish and widow rockfish in the offshore whiting fishery is also deducted from the limited entry allocations to determine the landed catch equivalents for the target fisheries for widow and yellowtail rockfish. Although this revised process complicates the calculation of the landed catch equivalents for the limited entry allocations, it is intended to more appropriately apply the discard estimates to the fleet responsible for the discards. Discards in most open access fisheries are believed to be small, and no discard estimates are applied to the open access fishery at this time. However, they may be applied during the season as information becomes available.

Open Access Allocations

The open access fishery is composed of vessels that operate under the OYs, quotas, and other management measures governing the open access fishery, using (1) exempt gear or (2) longline or pot (trap) gear fished from vessels that do not have limited entry permits endorsed for use of that gear. Exempt gear includes all types of legal groundfish fishing gear except groundfish trawl, longline, and pots. (Exempt gear includes trawls used to harvest pink shrimp, spot, or ridgeback prawns (shrimp trawls) and, halibut or sea cucumbers south of Pt. Arena, CA (38°57'30" N. lat.).

Open access allocations are derived by applying the open access allocation percentages to the commercial OY. The commercial OY is the annual OY after subtracting any set-asides for recreational or tribal fishing or compensation for conducting resource surveys. For those species in which the open access share would have been less than 1 percent, no open access allocation is specified unless significant open access effort is expected.

Limited Entry Allocations

The limited entry fishery is the fishery composed of vessels using limited entry gear fished pursuant to the OYs, quotas, and other management measures governing the limited entry fishery. Limited entry gear includes longline, pot, or groundfish trawl gear used under the authority of a valid limited entry permit issued under the FMP, affixed with an endorsement for that gear. (Groundfish trawl gear excludes shrimp trawls used to harvest pink shrimp, spot prawns, or ridgeback prawns, and other trawls used to fish for California halibut or sea cucumbers south of Pt. Arena, CA.) A sablefish endorsement is also required to operate in the limited entry non-trawl regular or mop-up seasons for sablefish.

The limited entry allocation (in total catch) is the OY reduced by (1) set-asides, if any, for treaty Indian fisheries, recreational fisheries, or compensation fishing for participation in resource surveys (which results in the commercial OY or quota); and (2) the open access allocation. (Allocations for Washington coastal tribal fisheries are discussed in section V and, for whiting, at paragraph IV.B.(3).)

Following these procedures, the Regional Administrator calculated the amounts of the allocations that are presented in Table 1a to this document. Unless otherwise specified, the limited entry and open access allocations are treated as OYs in 2001. There may be slight discrepancies from the Council's recommendations due to rounding.

III. 2001 Management Measures

Before 2000, the major goals of groundfish management were to prevent overfishing while achieving the OYs and to provide year-round fisheries for the major species or species groups. Over time, however, it became apparent that a number of species could not continue to be harvested year-round at a constant harvest rate. New legislative mandates under the Magnuson-Stevens Act (as amended by the Sustainable Fisheries Act in 1996) gave highest priority to preventing overfishing and rebuilding overfished stocks to their MSY levels. The National Standard Guidelines at 50 CFR 600.310 interpreted this as “weak stock management,” which means that harvest of healthier stocks may need to be curtailed to prevent overfishing or to rebuild overfished stocks. Amendment 13 to the FMP, which was approved in December 2000, authorizes additional types of management measures to be adopted routinely with the annual management measures in order to achieve rebuilding.

Five FMP species have been declared overfished as of January 2000 (lingcod, bocaccio, POP, canary rockfish, and cowcod), and two more species are being declared overfished concurrent with publication of this document (darkblotched and widow rockfish). Of these species, canary rockfish is the most constraining, as its OY was reduced from 1,045 mt in 1999 to 200 mt in 2000, and to 93 mt in 2001. Canary rockfish is found coastwide on the continental shelf and is caught directly or incidentally in most West Coast fisheries (groundfish and non-groundfish. In order to rebuild these overfished species, the Council chose management measures to divert effort off the sea floor of the continental shelf, where lingcod, bocaccio, canary rockfish, cowcod, widow rockfish, and, to a lesser extent, POP and darkblotched rockfish occur. Management measures for 2001 are designed to orient these fisheries away from the shelf, while providing fishing opportunities on some, but not all, groundfish species throughout the year.

Management priorities for 2001 were guided by the following goals: (1) Prevent overfishing; (2) manage consistent with rebuilding plans for overfished species; (3) maximize harvest opportunities for non-depleted stocks while minimizing, to the extent practicable; the discard mortality of other species; (4) provide equitable harvest opportunity for both recreational and commercial sectors; (5) within the commercial fisheries, achieve limited entry and open access allocations, to the extent practicable and (6) maintain year-round commercial groundfish fishing opportunities to the extent possible.

A number of assumptions and considerations were involved in developing the management recommendations for 2001. As discussed earlier, the chief constraint for 2001 fisheries was the need to prevent directed and incidental canary rockfish harvest. Directed canary rockfish harvest can be eliminated by reducing trip limits to levels that make targeting canary rockfish unprofitable. However, reducing incidental interception of canary rockfish to minimal levels is much more difficult. For example, widow rockfish directed fishing opportunities in 2001 have been reduced because of its newly designated status as an overfished species, and reducing widow rockfish target levels is expected to also reduce incidental canary rockfish interception. Moreover, yellowtail rockfish, which is also often caught with canary rockfish, has lower trip limits this year then otherwise would have been required to take the yellowtail OY to minimize canary rockfish interception. In general, there are few yellowtail rockfish targeting opportunities for trawlers in 2001, and most yellowtail rockfish landings are allowed only when yellowtail is caught incidentally to flatfish landings or in directed midwater yellowtail fisheries. Furthermore, flatfish fisheries have been constrained by new trip limits, particularly in the summer months when canary rockfish is likely to be incidentally taken.

The Council has also continued its management strategy from 2000 that prohibited landings of many species by vessels using large footrope trawl gear (footropes greater than 8 inches (20.5 cm) diameter). It is not possible to maintain a year-round fishery with bottom trawl gear for all groundfish species without an unacceptable level of incidental catch, and it is not possible to maintain a year-round commercial fishery if all (or even most) limited entry vessels participate all year.

Recreational fisheries effort has also been reduced to protect canary rockfish. A significant portion, 26 mt, of the 93 mt canary rockfish OY is expected to be taken in the California recreational fisheries. To constrain their recreational fisheries to even this catch level, California fishery managers recommended continuing the 2000 2-month fishery closure south of Point Conception, except for fishing for minor nearshore rockfish shoreward of the 20-fathom (36.9 m) depth contour (with the potential for an additional closure in the last 2 months of the year if needed). Between Point Conception and 40°10' N. lat., the fishery will be closed in March and April, and expanding to a partial closure in May-June, although fishing for minor nearshore rockfish shoreward of the 20-fathom (36.9 m) depth contour will be allowed. Additional changes to bag limits, hook limits, and size limits were also needed to reduce recreational canary rockfish harvest.

Cowcod protection measures described earlier in the section on cowcod rebuilding apply to all fisheries. Cowcod retention is prohibited for all fisheries and all gear types. Commercial and recreational groundfish fisheries are closed within the CCAs, except that fishing for nearshore rockfish is allowed inside 20 fathoms (36.9 m). The Council is also asking the state of California to further protect cowcod by restricting or prohibiting non-groundfish fisheries inside the CCAs.

Recreational fishing restrictions proposed for California are intended to ensure that fishing mortality will not exceed limits associated with rebuilding plans for bocaccio, canary rockfish, cowcod, and lingcod, while not restricting the fisheries so fully that charter vessels and associated firms are forced out of business. The 2-month closure off southern California is intended to reduce bocaccio catch but will provide some protection for all species. The 4-month closure off central California will provide additional protection needed for canary rockfish as well as reducing the catch of bocaccio and lingcod in that area. Reductions in bag limits and hook limits are also intended to reduce opportunities for fishers to intercept protected species. Closed CCAs will have incidental benefits in protecting bocaccio and other rockfish. Cowcod inhabit special types of habitat, and fishers (and charter operators) know well how to identify and avoid such habitat. Taken together with the proposed restrictions on commercial fisheries, the recreational fishery limits are expected to keep total fishing mortality under the established OYs.

Some commercial fishers have commented that they are being unfairly constrained relative to recreational fisheries, while some recreational fishers have commented that the commercial fisheries are being favored. In developing 2001 management measures, the Council sought a fair and equitable balance for the two sectors, and also sought to achieve needed reductions in total fishing mortality. The Council was concerned that further restrictions on recreational fishing (e.g., longer closures or lower bag limits) would prevent charter vessels operators from running charter fishing trips for a long enough period that they would go out of business. Under further restrictions, passengers may refuse to pay the price to fish or may not make enough trips in open seasons to allow operators to cover their costs. Not only would charter vessel operators be affected by changes to recreational fishery management, but related businesses would also likely suffer. The closed seasons generally cover the months that have historically accounted for the largest seasonal catches of bocaccio and other rockfishes.

Allowable commercial catches of many groundfish are even lower than in 2000, but the Council has tried to restructure the timing of differential trip limits to provide commercial fisheries with greater flexibility in their fishing patterns while not increasing the overall catches. Again, this restructuring is intended to limit the extent to which fishers would be driven out of business and related firms would suffer. Many commercial groundfish fishers have other fishing opportunities during the year, and these opportunities were taken into account. For example, the small-scale commercial fishers (and recreational fishers) in southern California would (under state regulations) still be able to fish for certain species in nearshore waters while the shelf is closed to protect overfished species.

Management measures for the limited entry fishery are found in section IV. Most cumulative trip limits, size limits, and seasons for the limited entry fishery are set out in Tables 3 and 4 of section IV. However, the limited entry nontrawl sablefish fishery, the midwater trawl fishery for whiting, and the hook-and-line fishery for black rockfish off Washington are managed separately from the majority of the groundfish species and are not fully addressed in the tables. Their framework management structure has not changed since 2000, except for the level of trip limits for sablefish and whiting, and is described in paragraphs IV.B.(2)-(4) of section IV. Other provisions for the 2000 fisheries not explicitly addressed above remain in effect for 2001 and are repeated in section IV of this document.

The following management measures, adopted this year as part of the annual management measures, are established as routine management measures: (1) Commercial trip limits that differ by gear type; (2) recreational size limits and hook limits; recreational fileting and dressing requirements for rockfish, cabezon, greenling, and lingcod; and (3) closed seasons/areas for all fisheries for all groundfish, rockfish, lingcod, and cowcod.

After hearing proposals and advice from its advisory entities and public testimony at its November 2000 meeting, the Council recommended the following actions for management in 2001.

Limited Entry Trawl

For the limited entry trawl fishery, the Council recommended a suite of gear and cumulative trip limits designed to encourage fishing with gear in times and areas where incidental catch of overfished or depleted species will be minimized. For 2001, the Council recommended continuing the use of differential trip limits for limited entry trawlers operating with different trawl gear configurations: bottom trawl with footropes greater than 8 inches (20.5 cm) in diameter; bottom trawl with footropes smaller than 8 inches (20.5 cm) in diameter; and midwater or pelagic trawl. Trawling with footropes that have roller gear or other large gear designed to bounce over tough rockpiles tends to allow those vessels greater access to areas where several of the overfished species congregate. Therefore, landings of shelf rockfish are prohibited if large footrope trawls (roller gear) are used (or on board the vessel); small amounts of shelf rockfish bycatch may be landed if small footrope trawls are used; and, targeting healthy shelf rockfish stocks is encouraged only if midwater trawls are used. This strategy of differential trip limits for different trawl gear types was used in 2000, and initial Oregon Department of Fish and Wildlife logbook data show a significant decrease in trawl activity in rocky areas of the continental shelf. Cowcod prohibitions and closures apply to limited entry trawl vessels, although there are few limited entry trawl vessels operating south of Point Conception in CCA waters.

Chafing gear will continue to be prohibited on the body of small footrope trawls. Chafing gear protects the net from excess wear when it drags against rock piles or the sea floor. The prohibition against chafing gear makes the net more vulnerable to damage, and so encourages fishers to operate in less rocky areas.

Trawl vessels using large footrope gear (with footropes greater than 8 inches (20 cm) in diameter) are prohibited from landing nearshore and shelf rockfish and most flatfish species because their ability to fish in rocky areas would result in high incidental catch of species that cannot withstand additional fishing effort. Although vessels are not prohibited from using large footropes in nearshore and continental shelf areas, they are not allowed to retain and sell most of the species they would catch from those areas, which was a significant disincentive to operate there in 2000. Large footrope trawls may still be used on deepwater species of the continental shelf and slope, primarily Dover and rex soles, thornyheads, sablefish, and deepwater rockfish, fewer of the species needing protection in these areas would be encountered. During part of the year, predominantly winter months, large footrope trawls may also be used to harvest arrowtooth flounder and petrale sole. However, small footrope trawls are required for the rest of the year when these species are more likely to aggregate with overfished species (See Table 3).

Trip limits are imposed for arrowtooth flounder from January-April and from November-December to discourage targeting on POP, and on all flatfish species in the north in May-October to minimize canary rockfish bycatch. The lingcod trawl fishery is closed during January-April and November-December, with only an incidental catch level trip limit (400 lb (181 kg) per month) available from May-October. Lingcod closures in the winter will reduce the overall harvest and will protect spawning fish and males guarding their nests.

Another way the Council devised to allow harvest of relatively abundant stocks is through the use of midwater trawl gear. This gear is effective at harvesting certain species above the ocean floor with little or no bycatch of bottom-dwelling species such as canary rockfish. In fact, the Council believes that using midwater gear may be the best way to harvest chilipepper and yellowtail rockfish without catching canary rockfish. Consequently, larger 2-month cumulative trip limits are provided for vessels using midwater trawl gear to harvest yellowtail and chilipepper rockfish. If a fisher chooses to carry more than one type of trawl gear on board, any landing will be attributed to the gear on board with the most restrictive landing limit. To land the maximum amounts of yellowtail and chilipepper rockfish, vessels will be required to have only midwater trawl gear on board.

However, NMFS cannot guarantee that these higher midwater trawl limits will be available throughout the year, or in future years. NMFS cautions fishers to consider, before purchasing new gear, whether investing in new midwater trawl gear is cost effective. For the foreseeable future, the Council will be operating under the provisions of overfished species rebuilding plans, which will make it difficult for the Council to provide consistency in the fishery management measures it recommends from year to year.

Limited Entry Fixed Gear

Limited entry fixed-gear fisheries start the year with the same limits as the limited entry trawl fishery when there is no distinction based on type of trawl gear. It has the same limits as the small footrope trawl fishery when there is a trawl gear distinction, except for limits for sablefish, widow rockfish, yellowtail rockfish, chilipepper, and nearshore rockfish. Fixed gear cumulative trip limits for minor shelf rockfish, canary rockfish, bocaccio, and lingcod are the same as the cumulative trip limits for the small footrope trawl fishery except for the closed periods for the fixed gear fishery south of 40°10' N. lat. Cowcod prohibitions and closures apply to limited entry, fixed gear vessels.

Higher midwater trawl limits are not appropriate for fixed gear. Midwater trawls can be used to selectively harvest relatively large quantities of yellowtail and chilipepper rockfishes above the sea floor with minimal incidental catch of overfished species and at levels far exceeding recent landings by most fixed gear. There are no comparable and enforceable ways to modify fixed gear to keep it off the bottom and away from overfished species on the continental shelf.

The fixed gear fishery for widow rockfish is provided with a cumulative trip limit of 3,000 lb (1,361-kg) per month in 2001, between the 20,000-lb (9,072-kg) 2-month midwater trawl limit and the 1,000-lb (454 kg) per month small footrope trawl cumulative limit. However, the limit for the fixed gear fishery is higher than actual amounts landed by most fixed gear vessels in the past.

The fixed gear limit for yellowtail rockfish in 2001 is kept at the same level as for small footrope trawl gear, 1,500 lb (680 kg) per month. This limit will accommodate incidental catch rather than a target fishery. This limit will restrict the fixed gear fleet somewhat, but is intended and expected to minimize incidental canary rockfish catch.

The 2001 chilipepper limit of 2,500 lb (1,134 kg) per month is maintained at a lower level than trawl gear, consistent with recent landings, because bocaccio are caught in fixed gear fisheries for chilipepper.

Minor nearshore rockfish north of 40°10' N. lat. are managed to encourage fishing for black and blue rockfish, which are generally more abundant than other nearshore rockfish species. Thus, the limited entry fixed gear fishery for nearshore rockfish north of 40°10' N. lat. is 10,000 lb (4,536 kg) per 2 months, of which no more than 4,000 lb (1,814 kg) may be species other than black or blue rockfish.

The fixed gear sablefish fishery is managed under regulations at 50 CFR 660.323(a)(2) that provide for 2 seasons (the regular and mop-up seasons) during which cumulative trip limits apply. The rest of the year is designated for the “daily trip limit” (DTL) fishery, which is restricted by the pounds of sablefish that may be landed in each day, (300 lb (136 kg) north of 36° N. lat. and 350 lb (159 kg) south of 36° N. lat.). DTLs may not be accumulated or combined into a larger landing. North of 36° N. lat., DTL landings are also counted toward a 2-month cumulative limit of 2,700 lb (1,225 kg). South of 36° N. lat., a fisher may opt to make one landing per week above 350 lb (159 kg), but no more than 1,050 lb (476 kg).

For commercial fisheries, direct targeting and opportunities to take overfished species as bycatch are severely curtailed. Fixed gear generally has greater access than trawl gear to rockfish living on and around high relief rockpiles. To prevent commercial fixed gear vessels from fishing for nearshore rockfish, shelf rockfish, and lingcod during periods when the recreational fisheries for those species are closed, the Council recommended also closing commercial fixed gear fishing for those species during the same areas and periods. All limited entry fixed gear (pot and longline) vessels south of 40°10' N. lat. are prohibited from fishing for nearshore rockfish, shelf rockfish, and lingcod, with allowances for vessels fishing inside of the 20-fathom (36.9 m) depth contour. (In January and February south of 34°27' N. lat., closed except for minor nearshore rockfish inside 20 fathoms (36.9 m); in March and April between 40°10' N. lat. to 34°27' N. lat., closed; in May and June between 40°10' N. lat. to 34°27' N. lat., closed except for minor nearshore rockfish inside 20 fathoms (36.9 m)). Concurrent commercial and recreational closures are expected to achieve conservation goals while reducing the conflict that sometimes occurs when one gear type is allowed to fish while the other gear type is not. The Council expects that these commercial closures will also reduce the chance that a commercial vessel could take advantage of the recreational closure to target known rockfish hotspots available only to nontrawl gear.

Open Access (Hook-and-Line, Troll, Pot, Setnet, Trammel Net)

The open access nontrawl fishery is managed separately from the limited entry fixed-gear fishery. As in the past, open access cumulative trip limits continue to be applied mostly to 1-month periods, and thornyheads may not be taken and retained north of 36° N. lat. Time and area closures are used south of 40°10' N. lat., similar to the limited entry fixed gear fisheries and for the same reasons. Vessels participating in the open access fisheries with nontrawl gear (hook-and-line, troll, pot, setnet and trammel net) south of 40°10' N. lat. are prohibited from fishing for nearshore rockfish, shelf rockfish, and lingcod, with allowances for vessels fishing inside of the 20-fathom (36.9m) depth contour. (In January and February south of 34°27' N. lat., closed except for minor nearshore rockfish inside 20 fathoms (36.9 m); in March and April between 40°10' N. lat. to 34°27' N. lat., closed; in May and June between 40°10' N. lat. to 34°27' N. lat., closed except for minor nearshore rockfish inside 20 fathoms (36.9 m)). The lingcod fishery for all open access nontrawl gears is also subject to the same closure, size limits, and cumulative trip limits as limited entry fixed gear fisheries. As in 2000, the Council wanted to provide a continued opportunity to nearshore fishers to selectively harvest black and blue rockfish north of 40°10' N. lat., while discouraging excessive harvest of other nearshore species. Consequently, the cumulative trip limit provides for landings of 3,000 lb (1,361 kg) per 2 months of nearshore rockfish, of which no more than 900 lb (408 kg) may be species other than black or blue rockfish. Cowcod prohibitions and closures apply to all open access vessels.

In 1998 and prior years, most open access limits were linked to (and could not exceed) limited entry limits, so that the open access monthly cumulative limits for most species were 50 percent of the limited entry 2-month cumulative limits for those species. Since 1999, open access cumulative limits have not been linked to limited entry cumulative limits. Open access cumulative limits may exceed those for limited entry. If a vessel with a limited entry permit uses open access gear (including exempted trawl gear) and the open access cumulative limit is larger, the vessel will be constrained by the smaller, limited entry cumulative limit for the entire cumulative period.

Open Access Exempted Trawl Gear

Open access exempted trawl gear (used to harvest spot and ridgeback prawns, California halibut, sea cucumbers, or pink shrimp) is managed with both “per trip” limits and cumulative trip limits. These trip limits are similar to those in 2000, and the species-specific open access limits apply but may not exceed the overall groundfish limits. The limits are 500 lb (227 kg) of groundfish per day, not to exceed 1,500 lb (680 kg) per trip in the pink shrimp fishery. For other exempted trawl gears, there is a 300-lb (136-kg) per trip limit. The pink shrimp fishery is subject to species-specific limits that are different from other open access limits for lingcod, canary rockfish, and sablefish. Cowcod prohibitions and closures apply to all open access vessels.

Recreational Fishery

Recreational fisheries are also restricted for conservation reasons, particularly for lingcod, canary rockfish, and bocaccio, which have significant recreational catches. Washington, Oregon, and California each proposed, and the Council recommended, different combinations of seasons, bag limits and size limits to best fit the needs of their recreational fisheries, while meeting the conservation goals.

For lingcod, Washington closed the recreational fishery for 5 months (January 1-March 15, October 15-December 31) and raised the bag limit from 1 to 2 fish, while maintaining the 24-inch (61 cm) minimum size limit. Oregon lowered its bag limit from 2 to 1 lingcod and maintained its 24-inch (61-cm) size limit, but removed its 34-inch (86-cm) maximum size limit. California maintained its 2 lingcod bag limit, and a minimum size limit of 26 inches (66 cm), and closed the lingcod season January-February south of 34°27' N. lat. and March-June from 40°10' N. lat. to 34°27' N. lat. As recently as 1998, all three states had 3-fish lingcod bag limits and year-round seasons for this species. Recreational fisheries measures are more liberal off Washington State and somewhat revised in Oregon because of the slightly higher lingcod OY in 2001. California fisheries in 2000 achieved the bulk of the recreational lingcod allocation and had to be curtailed late in the year to prevent the fishery from exceeding the recreational lingcod allocation in 2001.

To prevent overfishing and rebuild overfished rockfish, the states took a number of additional actions. Washington maintained its 10 rockfish bag limit, but added that no more than 2 rockfish could be either canary rockfish or yelloweye rockfish, a species on which overfishing occurred in 1999. (Yelloweye are not common in trawl catches.) Oregon maintained its 10 rockfish bag limit, of which no more than 1 may be canary rockfish, a reduction from 3 canary rockfish in 2000. California maintained its 10 rockfish bag limit, reduced its canary rockfish sublimit from 3 fish to 1 fish, and also reduced its bocaccio sublimit from 3 fish to 2 fish, and kept its 10-inch (25-cm) minimum size limit for bocaccio. California also reduced its hook-per-pole limit from 3 hooks to 2 hooks. For bocaccio, the 10-inch (25-cm) minimum size off California was adopted to discourage the targeting of young fish off piers and jetties. Bocaccio smaller than 10 inches (25 cm) are common in shallow water during their first year of life, before they have an opportunity to mature and spawn. Fish caught off piers and jetties do not suffer from decompression and are expected to have high survive if returned quickly to sea.

To assist in species identification off California, the entire skin must remain on rockfish filets. This requirement provides a more effective means of enforcing reductions in bag limits for rockfish, in general, and for bocaccio, cowcod, and canary rockfish, in particular, because it is difficult to accurately distinguish among rockfish species unless the entire skin is attached.

Size limits are imposed on the following three species to protect young fish in nearshore waters off California: cabezon, 15-inch (38-cm) size limit; kelp greenling, 12-inch (30-cm) size limit; and California scorpionfish (also called "sculpin"), 10- inch (25-cm) size limit. These recreational size limits apply to species with a conservation need that are of commercial and recreational importance. Furthermore, these species are harvested in waters that are shallow enough to ensure a high likelihood of survival following capture and release. For cabezon, greenling, and California scorpionfish, the minimum size limits are intended to provide at least 50 percent of adult females of each species with an opportunity to spawn at least once. California state law subjects commercial fisheries off California to the same size limits for these three species.

Different season closures were chosen north and south of Point Conception in order to maximize benefits to bocaccio and canary rebuilding, while limiting disruption to the overall recreational fishery to 2-month or 4-month periods. Season closures were chosen to correspond with the periods of greatest benefit statewide for bocaccio and canary rockfish. Historically, over 40 percent of annual recreational landings of bocaccio in southern California have occurred during January and February, so prohibiting most rockfish landings during those months has the highest potential benefit for bocaccio. Nearly all canary rockfish catches in California have occurred north of Point Conception, where about 39 percent of the catch occurs during March-June, which is the greatest proportion of the total annual catch taken in any four consecutive months. March-June also accounts for a comparatively high proportion of the bocaccio catch north of Point Conception.

Season closures allow for modestly higher trip and bag limits than otherwise would be possible under year-round fishing. Season closures are also expected to result in fewer discards than otherwise would occur. Concurrent seasons for recreational and commercial nontrawl fisheries are more cost effective to enforce than staggered seasons and minimize conflicts between commercial nontrawl and recreational fishers who fish for nearshore and shelf rockfish.

Additional reductions in bocaccio and canary rockfish landings will be realized from lowering the daily bag limits for those species in the recreational fishery. Changing the daily bag limit for bocaccio from three fish to two fish may reduce recreational bocaccio landings between 12 and 23 percent. Likewise, lowering the daily bag limit for canary rockfish from three fish to one fish is expected to reduce recreational landings of canary rockfish by about 36 percent.

The most dramatic change to recreational fisheries management for groundfish is the introduction of the CCAs and the prohibition on cowcod retention. Cowcod has been an attractive target fish for recreational anglers because of its rare occurrence and because it is one of the largest rockfishes (up to 37 inches (95 cm) in length). Council recommendations for cowcod harvest are intended to emphasize that cowcod are rare because they have been overfished, and that anglers need to avoid cowcod rather than pursue them. Recreational fisheries are subject to the same cowcod prohibitions and closures as commercial fisheries.

Fishing Communities and Impacts

The Magnuson-Stevens Act requires that actions taken to implement FMPs be consistent with the 10 national standards, one of which requires that conservation and management measures “take into account the importance of fishery resources to fishing communities in order to (A) provide for the sustained participation of such communities and (B), to the extent practicable, minimize adverse economic impacts on such communities.” Commercial and recreational fisheries for Pacific coast groundfish contribute to the economies and shape the cultures of numerous fishing communities in Washington, Oregon, and California. Meeting the needs of fishing communities has become increasingly difficult because the Council manages a fishery that is overcapitalized and contains stocks that are overfished. In setting this year's specifications and management measures, the Council took several steps to accommodate the needs of those communities within the constraints of Magnuson-Stevens Act requirements to rebuild overfished stocks and to prevent overfishing. In general, the Council allows the largest harvest possible, consistent with conservation needs of the fish stocks.

For three of the five overfished species (lingcod, bocaccio, and canary rockfish), the Council could have prohibited all landings of these species, despite knowing that these three species are caught in mixed-stock fisheries. Interception and incidental mortality for these stocks are inevitable whether a retention prohibition is in place or not. Instead, the Council looked for some minimum level of retention in both commercial and recreational fisheries that would allow fishery participants to land some of their incidental catch of those species. The Council's goal was to set retention at some minimal level that would discourage targeting, while allowing fishers to land already-dead, incidentally caught fish. The retention levels allowed for each of these species are below the overfishing level and allow rebuilding, but also account for some unintentional catch.

In addition to measures that cushion the socio-economic effects of rebuilding, the Council continued the year-round fishery opportunity that is important to the fishing and processing sectors for maintaining a continuity of employment. The Council modified the cumulative trip limit system that has been used in recent years to extend the fishing season throughout the year by providing opportunities for at least some groundfish species and by maintaining trawl gear restrictions initially adopted for 2000. These gear restrictions use operational and economic incentives to prevent bottom trawl fishing with roller gear for some species and encourage use of midwater trawl and small footrope trawls on the continental shelf where most overfished species occur. These strategies were first developed for the 2000 fishery by a group of industry participants who met with the Groundfish Management Team (GMT) about achieving conservation goals while minimizing effects on the industry and coastal communities. Offering higher limits to gear with lower bycatch rates reduces bycatch and enhances economic opportunities by providing access to healthy stocks.

Nonetheless, the effects of these 2001 management measures on some fishers and communities will be severe, particularly for those without other opportunities. For the 2001 fishery, the Council proposed stringent harvest levels intended to protect and rebuild overfished and depleted stocks. In addition to reducing OYs for overfished stocks, the Council also severely constrained harvest on healthy stocks associated with those overfished stocks. These measures were needed to ensure that rebuilding of overfished and depleted stocks could occur. However, they will cause serious socio-economic repercussions as a result of these lower harvest levels and the consequent lower landings limits.

On January 19, 2000, Commerce Secretary William Daley announced that the West Coast groundfish fishery qualified as a “fishery failure” under the Magnuson-Stevens Act. NMFS had determined that this “fishery failure” was the result of several factors, primarily a long period of low ocean productivity combined with incorrect assumptions about the productivity of groundfish stocks. As discussed earlier in the section on the Council’s new and more conservative harvest policy, recent scientific studies have shown that West Coast groundfish stocks have relatively low productivity when compared to other, similar stocks throughout the world. Thus, the Council had to conservatively adjusted its current harvest policies to account for this new information about lower groundfish productivity, and set lower harvest limits to rebuild stocks that had been inadvertently fished at overly aggressive rates in the past.

In addressing the economic side of the fishery failure, NMFS estimated that implementing 2000 OYs and landings limits would result in about a 25 percent loss ($9-11 million) in revenue for the industry, as compared to 1999 OYs and landings levels. Groundfish harvest is even more constrained for 2001 with the implementation of the canary rockfish rebuilding plan. Participation in the groundfish fishery, particularly for open access fishers, has declined over the past several years. In 1994, approximately 1,900 vessels landed groundfish in the open access fishery coastwide. In 1999, approximately 1,500 open access vessels landed groundfish in 1999. Out of the 400 vessels leaving the fishery, approximately 300 had participated in the fishery south of Cape Mendocino, CA. Participation in the open access fishery is more flexible than participation in the limited entry fishery; open access vessels are more likely to move between fisheries from year to year, or to try a new economic venture altogether. Thus, open access fleet size may be used as a gauge of the overall economic viability of the fishery.

Distribution of the economic effect of the 2001 management measures will depend on how well the fishers can adapt to the restrictions. Some user groups, particularly those able to use midwater trawl gear, will have a greater opportunity to harvest than they would have had without gear restrictions, because the Council recommended restrictions that encourage fishers to use gear that reduces incidental catch of the depleted rockfish. Other fishers will not be able to maintain a viable operation at the reduced harvest levels. The Council prepared an EA/RIR for this action, which includes a discussion of the economic and social effects of these management measures on coastal communities (see ADDRESSES).

Summary of Management Changes in 2001

Section IV below incorporates the regulatory text that applies to fishers operating in the Pacific coast groundfish fishery in 2001. Many provisions are the same as in 2000, but a number of revisions and format changes have been made. New cumulative trip limit periods are announced at IV.A.(1)(c) that apply to both limited entry and open access fisheries. Explanations of size limit measurements and weight conversions are found at paragraph IV.A.(6), including a new filet length description for recreational fisheries. The sablefish size limit for trawlers and the limited entry, fixed-gear regular and mop-up sablefish fisheries have been eliminated. Paragraph IV.A. (11) clarifies how cumulative trip limits are applied for a limited entry vessel operating in the open access fishery if the open access limit is larger than the limited entry limit. Paragraph IV.A.(12) on “crossover” provisions includes new discussions of how crossover provisions apply to minor rockfish species and how they apply to the DTS complex for limited entry trawlers. Paragraph IV.A.(13) includes a list of species that must be sorted. Gear restrictions for the limited entry fishery appear in paragraph IV.A.(14); cumulative trip limits differ for many species depending on the type of trawl gear used. The first days of the major cumulative limit periods, which establish when limited entry permit transfers must be completed, are announced in paragraph IV.A.(15). Platooning dates for the year 2000 are listed in paragraph IV.A.(16). A new paragraph IV.A.(20) is inserted to define the CCAs. Classifications of nearshore, shelf, and slope rockfish are found at paragraph IV.A.(21), and minor rockfish species are listed in Table 2.

Cumulative trip limits are set into tables, with explanations in Section IV. However, the industry is cautioned not to rely on the tables alone. The text in Section IV provides cumulative trip limit definitions and periods, size limit definitions and conversions, and other information that cannot be readily included in a table but must be understood in order to correctly use the tables. The sablefish allocations and nontrawl sablefish management, Pacific whiting allocations and seasons, and “per trip” limits for black rockfish off Washington State are still presented in text in paragraphs IV.B. Discussions of trip limits for exempted trawl gear in the open access fishery (paragraph IV.C.), recreational management measures (paragraph IV.D.), and tribal allocations and management measures (paragraph V.) still remain in the text.

How to Use the Trip Limit Tables

Cumulative trip limits are applied during the time periods and in the areas indicated in Tables 3-5 of Section IV. The cumulative trip limit may be taken at any time within the applicable cumulative trip limit period. All cumulative trip limit periods start at 0001 hours, local time, on the specified beginning date, except for "B" platoon trawl vessels whose limits start on the 16th of the month (see paragraph IV.A.(16).

Example 1: Line 2 of Table 3 for the limited entry trawl fishery means: North of 40°10' N. lat., the cumulative trip limit for minor slope rockfish is 1,500 lb (680 kg) per 2-month period; the 2-month periods are January 1-February 28 and March 1-April 30.

Example 2: The trip limits for bocaccio on Table 4 for limited entry fixed gear mean: From January 1 through February 28, the trip limit for bocaccio between 40°10' N. lat. and 34°27' N. lat. is 300 lb (136 kg) each month. However, the fishery for bocaccio is closed from March 1 to April 30, which means bocaccio may not be taken, retained, possessed or landed between 40°10' N. lat. and 34°27' N. lat. during that time period. The cumulative trip limit increases to 500 lb (227 kg) per month on May 1, but a fisher may not fish ahead on that amount (see paragraph IV.A.(2)). Bocaccio taken and retained north of 40°10' N. lat. are not explicitly mentioned in the table, which means they are included in the trip limit for “minor shelf rockfish-north” (see footnote 5 of Table 4).

IV. NMFS Actions

For the reasons stated above, the Assistant Administrator for Fisheries, NOAA (Assistant Administrator), concurs with the Council's recommendations and announces the following management actions for 2001, including both measures that are unchanged from 2000 and new measures.

A. General Definitions and Provisions

The following definitions and provisions apply to the 2001 management measures, unless otherwise specified in a subsequent Federal Register document:

(1) Trip limits. Trip limits are used in the commercial fishery to specify the amount of fish that may legally be taken and retained, possessed, or landed, per vessel, per fishing trip, or cumulatively per unit of time, or the number of landings that may be made from a vessel in a given period of time, as follows:

(a) A “per trip” limit is the total allowable amount of a groundfish species or species group, by weight, or by percentage of weight of legal fish on board, that may be taken and retained, possessed, or landed per vessel from a single fishing trip.

(b) A daily trip limit is the maximum amount that may be taken and retained, possessed, or landed per vessel in 24 consecutive hours, starting at 0001 hours l.t. Only one landing of groundfish may be made in that 24-hour period. Daily trip limits may not be accumulated during multiple day trips.

(c) A cumulative trip limit is the maximum amount that may be taken and retained, possessed, or landed per vessel in a specified period of time without a limit on the number of landings or trips, unless otherwise specified. The cumulative trip limit periods for limited entry and open access fisheries, which start at 0001 hours l.t. and end at 2400 hours l.t., are as follows, unless otherwise specified:

(i) The 2-month periods are: January 1-February 28, March 1-April 30, May 1-June 30, July 1-August 31, September 1-October 31, and, November 1-December 31.

(ii) One month means the first day through the last day of the calendar month.

(iii) One week means 7 consecutive days, Sunday through Saturday.

(2) Fishing ahead. Unless the fishery is closed, a vessel that has landed its cumulative or daily limit may continue to fish on the limit for the next legal period, so long as no fish (including, but not limited to, groundfish with no trip limits, shrimp, prawns, or other nongroundfish species or shellfish) are landed (offloaded) until the next legal period. As stated at 50 CFR 660.302 (in the definition of “landing”), once the offloading of any species begins, all fish aboard the vessel are counted as part of the landing. Fishing ahead is not allowed during or before a closed period (see paragraph IV.A.(7)). See paragraph IV.A.(9) for information on inseason changes to limits.

(3) Weights. All weights are round weights or round-weight equivalents unless otherwise specified.

(4) Percentages. Percentages are based on round weights, and, unless otherwise specified, apply only to legal fish on board.

(5) Legal fish. “Legal fish” means fish legally taken and retained, possessed, or landed in accordance with the provisions of 50 CFR part 660, the Magnuson-Stevens Act, any document issued under part 660, and any other regulation promulgated or permit issued under the Magnuson-Stevens Act.

(6) Size limits and length measurement. Unless otherwise specified, size limits in the commercial and recreational groundfish fisheries apply to the “total length”: the longest measurement of the fish without mutilation of the fish or the use of force to extend the length of the fish. No fish with a size limit may be retained if it is in such condition that its length has been extended or cannot be determined by these methods. For conversions not listed here, contact the state where the fish will be landed.

(a) Whole fish. For a whole fish, total length is measured from the tip of the snout (mouth closed) to the tip of the tail in a natural, relaxed position.

(b) “Headed” fish. For a fish with the head removed (“headed”), the length is measured from the origin of the first dorsal fin (where the front dorsal fin meets the dorsal surface of the body closest to the head) to the tip of the upper lobe of the tail; the dorsal fin and tail must be left intact.

(c) Filets. A filet is the flesh from one side of a fish extending from the head to the tail, which has been removed from the body (head, tail, and backbone) in a single continuous piece. Filet lengths may be subject to size limits for some groundfish taken in the recreational fishery off California (see paragraph IV. D.(1)). A filet is measured along the length of the longest part of the filet in a relaxed position; stretching or otherwise manipulating the filet to increase its length is not permitted.

(d) Sablefish weight limit conversions. The following conversions apply to both the limited entry and open access fisheries when trip limits are effective for those fisheries. For headed and gutted (eviscerated) sablefish, the conversion factor established by the state where the fish is or will be landed will be used to convert the processed weight to round weight for purposes of applying the trip limit. (The conversion factor currently is 1.6 in Washington, Oregon, and California. However, the state conversion factors may differ; fishers should contact fishery enforcement officials in the state where the fish will be landed to determine that state's official conversion factor.)

(e) Lingcod size and weight conversions. The following conversions apply in both limited entry and open access fisheries.

(i) Size conversion. For lingcod with the head removed, the minimum size limit is 19.5 inches (49.5 cm), which corresponds to 24 inches (61 cm) total length for whole fish.

(ii) Weight conversion. The conversion factor established by the state where the fish is or will be landed will be used to convert the processed weight to round weight for purposes of applying the trip limit. (The states' conversion factors may differ, and fishers should contact fishery enforcement officials in the state where the fish will be landed to determine that state's official conversion factor.) If a state does not have a conversion factor for headed and gutted lingcod, or lingcod that is only gutted; the following conversion factors will be used. To determin (A) Headed and gutted. The conversion factor for headed and gutted lingcod is 1.5. e the round weight, multiply the processed weight times the conversion factor.

(B) Gutted, with the head on. The conversion factor for lingcod that has only been gutted is 1.1.

(7) Closure. “Closure,” when referring to closure of a fishery, means that taking and retaining, possessing, or landing the particular species or species group is prohibited.(See 50 CFR 660.302.) Unless otherwise announced in the Federal Register, offloading must begin before the time the fishery closes. [Note: Special provisions are made for an at-sea closure at the end of the regular season for the sablefish limited entry fishery. See 50 CFR 660.323(a)(2).] The provisions at paragraph IV.A.(2) for fishing ahead do not apply during a closed period. It is unlawful to transit through a closed area with the prohibited species on board, no matter where that species was caught, except as provided for in the CCA at IV. A.(20).

(8) Fishery management area. The fishery management area for these species is the EEZ off the coasts of Washington, Oregon, and California between 3 and 200 nm offshore, bounded on the north by the Provisional International Boundary between the United States and Canada, and bounded on the south by the International Boundary between the United States and Mexico. All groundfish possessed between 0-200 nm offshore or landed in Washington, Oregon, or California are presumed to have been taken and retained from the EEZ, unless otherwise demonstrated by the person in possession of those fish.

(9) Routine management measures. Most trip, bag, and size limits in the groundfish fishery have been designated “routine ”, which means they may be changed rapidly after a single Council meeting. (See 50 CFR 660.323(b).) Council meetings in 2001 will be held in the months of March, April, June, September, and November. Inseason changes to routine management measures are announced in the Federal Register. Information concerning changes to routine management measures is available from the NMFS Northwest and Southwest Regional Offices (see ADDRESSES). Changes to trip limits are effective at the times stated in the Federal Register. Once a change is effective, it is illegal to take and retain, possess, or land more fish than allowed under the new trip limit. This means that, unless otherwise announced in the Federal Register, offloading must begin before the time a fishery closes or a more restrictive trip limit takes effect.

(10) Limited entry limits. It is unlawful for any person to take and retain, possess, or land groundfish in excess of the landing limit for the open access fishery without having a valid limited entry permit for the vessel affixed with a gear endorsement for the gear used to catch the fish (50 CFR 660.306(p)).

(11) Operating in both limited entry and open access fisheries. The open access trip limit applies to any fishing conducted with open access gear, even if the vessel has a valid limited entry permit with an endorsement for another type of gear. A vessel that operates in both the open access and limited entry fisheries is not entitled to two separate trip limits for the same species. If a vessel has a limited entry permit and uses open access gear, but the open access limit is smaller than the limited entry limit, the open access limit cannot be exceeded and counts toward the limited entry limit. If a vessel has a limited entry permit and uses open access gear, but the open access limit is larger than the limited entry limit, the smaller limited entry limit applies, even if taken entirely with open access gear.

(12) Operating in areas with different trip limits. Trip limits for a species or a species group may differ in different geographic areas along the coast. The following “crossover” provisions apply to vessels operating in different geographical areas that have different cumulative or “per trip” trip limits for the same species or species group. Such crossover provisions do not apply to species that are subject only to daily trip limits, or to the trip limits for black rockfish off Washington (see 50 CFR 660.323(a)(1)). In 2001, the cumulative trip limit periods for the limited entry and open access fisheries are specified in paragraph IV.A(1)(c), but may be changed during the year if announced in the Federal Register.

(a) Going from a more restrictive to a more liberal area. If a vessel takes and retains any groundfish species or species group of groundfish in an area where a more restrictive trip limit applies before fishing in an area where a more liberal trip limit (or no trip limit) applies, then that vessel is subject to the more restrictive trip limit for the entire period to which that trip limit applies, no matter where the fish are taken and retained, possessed, or landed.

(b) Going from a more liberal to a more restrictive area. If a vessel takes and retains a groundfish species or species group in an area where a higher trip limit or no trip limit applies, and takes and retains, possesses or lands the same species or species group in an area where a more restrictive trip limit applies, that vessel is subject to the more restrictive trip limit for the entire period to which that trip limit applies, no matter where the fish are taken and retained, possessed, or landed.

(c) Minor rockfish. Several rockfish species are designated with species-specific limits on one side of the 40°10 N. lat. management line, and are included as part of a minor rockfish complex on the other side of the line.

(i) If a vessel takes and retains minor slope rockfish north of 40°10' N. lat., that vessel is also permitted to take and retain, possess or land splitnose rockfish up to its cumulative limit south of of 40°10' N. lat., even if splitnose rockfish were a part of the landings from minor slope rockfish taken and retained north of 40°10 N. lat. [Note: A vessel that takes and retains minor slope rockfish on both sides of the management line in a single cumulative limit period is subject to the more restrictive cumulative limit for minor slope rockfish during that period.]

(ii) If a vessel takes and retains minor shelf rockfish north of 40°10' N. lat., that vessel is also permitted to take and retain, possess, or land chilipepper rockfish and bocaccio up to their respective cumulative limits south of 40°10' N. lat., even if either species is part of the landings from minor shelf rockfish taken and retained north of 40°10' N. lat. [Note: A vessel that takes and retains minor shelf rockfish on both sides of the management line in a single cumulative limit period is subject to the more restrictive cumulative limit for minor shelf rockfish during that period.]

(iii) If a vessel takes and retains minor shelf rockfish south of 40°10' N. lat., that vessel is also permitted to take and retain, possess, or land yellowtail rockfish and POP up to their respective cumulative limits north of 40°10' N. lat., even if either species is part of the landings from minor shelf rockfish taken and retained south of 40°10' N. lat. [Note: A vessel that takes and retains minor shelf rockfish on both sides of the management line in a single cumulative limit period is subject to the more restrictive cumulative limit for minor shelf rockfish during that period.]

(d) “DTS complex.” For 2001, differential trip limits are introduced for the “DTS complex” (Dover sole, shortspine thornyhead, longspine thornyhead, sablefish) north and south of the management line at 40°10' N. lat. Vessels operating in the limited entry trawl fishery are subject to the crossover provisions in this paragraph IV.A.(12) when making landings that include any one of the four species in the “DTS complex.” [Example: The January-February cumulative limit for Dover sole north of 40°10' N. lat. is 65,000 lb (29,484 kg) and the cumulative limit for sablefish in that same period and area is 5,000 lb (2,268 kg), while the cumulative limits south of 40°10' N. lat. are 35,000 lb (15,876 kg) for Dover sole and 8,000 lb (3,629 kg) for sablefish. Under the crossover provisions, a vessel may not take and retain Dover sole north of 40°10' N. lat. and then travel south of 40°10' N. lat. in that same 2-month period to take and retain the higher sablefish limit in the south.]

(13) Sorting. It is unlawful for any person to “fail to sort, prior to the first weighing after offloading, those groundfish species or species groups for which there is a trip limit, size limit, quota, or commercial OY, if the vessel fished or landed in an area during a time when such trip limit, size limit, commercial optimum yield, or quota applied.” This provision applies to both the limited entry and open access fisheries. (See 50 CFR 660.306(h).) The following species must be sorted in 2001:

(a) For vessels with a limited entry permit:

(i) Coastwide—widow rockfish, canary rockfish, darkblotched rockfish, minor nearshore rockfish, minor shelf rockfish, minor slope rockfish, shortspine and longspine thornyheads, Dover sole, arrowtooth flounder, rex sole, petrale sole, other flatfish, lingcod, sablefish, and Pacific whiting;

(ii) North of 40°10' N. lat.--Pacific ocean perch, yellowtail rockfish, and, for fixed gear, black rockfish and blue rockfish;

(iii) South of 40°10' N. lat.--chilipepper rockfish, bocaccio rockfish, splitnose rockfish.

(b) For open access vessels (vessels without a limited entry permit):

(i) Coastwide—widow rockfish, canary rockfish, darkblotched rockfish, minor nearshore rockfish, minor shelf rockfish, minor slope rockfish, arrowtooth flounder, other flatfish, lingcod, sablefish, and Pacific whiting;

(ii) North of 40°10' N. lat.—black rockfish, blue rockfish, Pacific ocean perch, yellowtail rockfish;

(iii) South of 40°10' N. lat.—chilipepper rockfish, bocaccio rockfish, splitnose rockfish;

(iv) South of Point Conception—thornyheads.

(14) Limited Entry Trawl Gear Restrictions. Limited entry trip limits may vary depending on the type of trawl gear that is on board a vessel during a fishing trip: large footrope, small footrope, or midwater trawl gear.

(a) Types of trawl gear—(i) Large footrope trawl gear is bottom trawl gear, as specified at 50 CFR 660.302 and 660.322(b), with a footrope diameter larger than 8 inches (20 cm) (including rollers, bobbins or other material encircling or tied along the length of the footrope).

(ii) Small footrope trawl gear is bottom trawl gear, as specified at 50 CFR 660.302 and 660.322(b), with a footrope diameter 8 inches (20 cm) or smaller (including rollers, bobbins or other material encircling or tied along the length of the footrope), except chafing gear may be used only on the last 50 meshes of a small footrope trawl, measured from the terminal (closed) end of the codend. Other lines or ropes that run parallel to the footrope may not be augmented or modified to violate footrope size restrictions.

(iii) Midwater trawl gear is pelagic trawl gear, as specified at 50 CFR 660.302 and 660.322(b)(2). The footrope of midwater trawl gear may not be enlarged by encircling it with chains or by any other means. Ropes or lines running parallel to the footrope of midwater trawl gear must be bare and may not be suspended with chains or other materials.

(b) Cumulative trip limits and prohibitions—(i) Large footrope trawl. It is unlawful to take and retain, possess or land any species of shelf or nearshore rockfish (defined at IV.A.(21) and Table 2 to Section IV) from a fishing trip if large footrope gear is onboard; this restriction applies coastwide from January 1 to December 31. North of 40°10' N. lat., it is unlawful to take and retain, possess or land petrale sole from a fishing trip if large footrope gear is onboard and the trip is conducted at least in part between May 1 and October 31; cumulative limits for “all other flatfish” (all flatfish except those with cumulative trip limits in Table 3 to Section IV) are lower for vessels with large footrope gear on board if the trip is conducted at least in part between May 1 and October 31. South of 40°10' N. lat., it is unlawful to take and retain, possess, or land petrale sole from a fishing trip if large footrope gear is on board and the trip is conducted at least in part during May 1-October 31; cumulative limits for arrowtooth flounder and “all other flatfish” are lower for vessels with large footrope gear on board if the trip is conducted at least in part between May 1 and October 31. (See Table 3). The presence of rollers or bobbins larger than 8 inches (20 cm) in diameter on board the vessel, even if not attached to a trawl, will be considered to mean a large footrope trawl is on board. Dates are adjusted for the “B” platoon (See IV.A.(16)).

(ii) Small footrope or midwater trawl gear. Cumulative trip limits for canary rockfish, widow rockfish, yellowtail rockfish, bocaccio, chilipepper, minor shelf rockfish, minor nearshore rockfish, and lingcod, as indicated in Table 3 to Section IV, are allowed only if small footrope gear or midwater trawl gear is used, and if that gear meets the specifications in paragraphs IV.A.(14).

(iii) Midwater trawl gear. Higher cumulative trip limits are available for limited entry vessels using midwater trawl gear to harvest widow, yellowtail, or chilipepper rockfish. Each landing that contains widow, yellowtail, or chilipepper rockfish is attributed to the gear on board with the most restrictive trip limit for those species. Landings attributed to small footrope trawl must not exceed the small footrope limit, and landings attributed to midwater trawl must not exceed the midwater trawl limit. If a vessel has landings attributed to both types of trawls during a cumulative trip limit period, landings attributed to small footrope gear are counted toward the cumulative limit for midwater trawl gear. [Example: The cumulative trip limit in January-February for widow rockfish is 20,000 lb (9,072 kg) per 2 month period, of which no more than 1,000 lb (454 kg) per month may be attributed to landings by small footrope trawl gear.]

(iv) More than one type of trawl gear on board. The cumulative trip limits in Table 3 of Section IV must not be exceeded. It is legal to have more than one type of limited entry trawl gear on board, but the most restrictive trip limit associated with the gear on board applies for that trip and will count toward the cumulative trip limit for that gear. [Example: If a vessel has large footrope gear on board, it cannot land chilipepper, even if the chilipepper is caught with a small footrope trawl. If a vessel has both small footrope trawl and midwater trawl gear onboard, the landing is attributed to the more restrictive small footrope trawl limit, even if midwater trawl gear was used.]

(c) Measurement. The footrope will be measured in a straight line from the outside edge to the opposite outside edge at the widest part on any individual part, including any individual disk, roller, bobbin, or any other device.

(d) State landing receipts. Washington, Oregon, and California will require the type of trawl gear on board with the most restrictive limit to be recorded on the State landing receipt(s) for each trip or an attachment to the State landing receipt.

(e) Gear inspection. All trawl gear and trawl gear components, including unattached rollers or bobbins, must be readily accessible and made available for inspection at the request of an authorized officer. No trawl gear may be removed from the vessel prior to offloading. All footropes shall be uncovered and clearly visible except when in use for fishing.

(15) Permit transfers. Limited entry permit transfers are to take effect only on the first day of a major cumulative limit period (50 CFR 660.333(c)(1)); those days in 2001 are January 1, March 1, May 1, July 1, September 1, and November 1, and are delayed by 15 days (starting on the 16th of a month) for the “B” platoon.

(16) Platooning—limited entry trawl vessels. Limited entry trawl vessels are automatically in the "A" platoon, unless the "B" platoon is indicated on the limited entry permit. If a vessel is in the “A” platoon, its cumulative trip limit periods begin and end on the beginning and end of a calendar month as in the past. If a limited entry trawl permit is authorized for the “B” platoon, then cumulative trip limit periods will begin on the 16th of the month (generally 2 weeks later than for the “A” platoon), unless otherwise specified.

(a) For a vessel in the “B” platoon, cumulative trip limit periods begin on the 16th of the month at 0001 hours, l.t., and end on the 15th of the month. Therefore, the management measures announced herein that are effective on January 1, 2001, for the “A” platoon will be effective on January 16, 2001, for the “B” platoon. The effective date of any inseason changes to the cumulative trip limits also will be delayed for 2 weeks for the “B” platoon, unless otherwise specified.

(b) A vessel authorized to operate in the “B” platoon may take and retain, but may not land, groundfish from January 1, 2001, through January 15, 2001.

(c) A vessel authorized to operate in the “B” platoon will have the same cumulative trip limits for the November 16, 2001, through December 31, 2001, period as a vessel operating in the “A” platoon has for the November 1, 2001, through December 31, 2001 period.

(17) Exempted fisheries. U.S. vessels operating under an exempted fishing permit issued under 50 CFR part 600 also are subject to these restrictions, unless otherwise provided in the permit.

(18) Paragraphs IV.B. and IV.C. pertain to the commercial groundfish fishery, but not to Washington coastal tribal fisheries, which are described in Section V. The provisions in paragraphs IV.B. and IV.C. that are not covered under the headings “limited entry” or “open access” apply to all vessels in the commercial fishery that take and retain groundfish, unless otherwise stated. Paragraph IV.D. pertains to the recreational fishery.

(19) Commonly used geographic coordinates.

(a) Cape Falcon, OR—45°46' N. lat.

(b) Cape Lookout, OR—45°20'15'' N. lat.

(c) Cape Blanco, OR--42°50' N. lat.

(d) Cape Mendocino, CA—40°30' N. lat.

(e) North/South management line—40°10' N. lat.

(f) Point Arena, CA—38°57'30'' N. lat.

(g) Point Conception, CA—34°27' N. lat.

(h) International North Pacific Fisheries Commission (INPFC) subareas (for more precise coordinates for the Canadian and Mexican boundaries, see 50 CFR 660.304):

(i) Vancouver—U.S.-Canada border to 47°30' N. lat.

(ii) Columbia—47°30' to 43°00' N. lat.

(iii) Eureka—43°00' to 40°30' N. lat.

(iv) Monterey--40°30' to 36°00' N. lat.

(v) Conception—36°00' N. lat. to the U.S.-Mexico border.

(20) Cowcod Conservation Areas. Recreational and commercial fishing for groundfish is prohibited within the Cowcod Conservation Areas (CCAs), except that recreational and commercial fishing for minor nearshore rockfish is permitted in waters inside 20 fathoms ( 36.9 m). It is unlawful to take and retain, possess, or land groundfish inside the CCAs, except for nearshore rockfish taken in waters inside the 20-fathom (36.9 m)depth contour. Commercial fishing vessels may transit through the Western CCA with their gear stowed and groundfish on board only in a corridor through the Western CCA bounded on the north by the latitude line at 33°00'30" N. lat., and bounded on the south by the latitude line at 32°59'30”.

(i) The Western CCA is an area south of Point Conception that is bound by straight lines connecting all of the following points in the order listed:

33°50' N. lat., 119°30' W. long.;

33°50' N. lat., 118°50' W. long.;

32°20' N. lat., 118°50' W. long.;

32°20' N. lat., 119°30' W. long.;

33°00' N. lat., 119°30' W. long.;

33°00' N. lat., 119°50' W. long.;

33°30' N. lat., 119°50' W. long.;

33°50' N. lat., 119°30' W. long.

(ii) The Eastern CCA is a smaller area west of San Diego that is bound by straight lines connecting all of the following points in the order listed:

32°40' N. lat., 118°00' W. long.;

32°40' N. lat., 117°50' W. long.;

32°30' N. lat., 117°50' W. long.;

32°40' N. lat., 118°00' W. long.

32°40' N. lat., 118°00' W. long.;

(21) Rockfish categories. Rockfish (except thornyheads) are divided into categories north and south of 40°10' N. lat., depending on the depth where they most often are caught: nearshore, shelf, or slope. (The term “ Sebastes complex” no longer is used. Scientific names appear in Table 2.) New trip limits have been established for “minor rockfish” species according to these categories (see Tables 2-5).

(a) Nearshore rockfish consists entirely of the minor rockfish species listed in Table 2.

(b) Shelf rockfish consists of canary rockfish, shortbelly rockfish, widow rockfish ( Sebastes entomelas), yellowtail rockfish, bocaccio, chilipepper, cowcod, and the minor shelf rockfish species listed in Table 2.

(c) Slope rockfish consists of Pacific ocean perch, splitnose rockfish, darkblotched rockfish, and the minor slope rockfish species listed in Table 2.

BILLING CODE 3510-22-S

Limited Entry Fishery

(1) General. Most species taken in limited entry fisheries will be managed with cumulative trip limits (see paragraph IV.A.(1)(c), size limits (see paragraph IV.A.(6)), and seasons (see paragraph IV.A. (7)). The trawl fishery has gear requirements and trip limits that differ by the type of trawl gear on board (see paragraph IV.A.(14)). For the first time in 2001, cowcod retention is prohibited in all fisheries and groundfish vessels operating south of Point Conception must adhere to CCA restrictions (see paragraph IV.A. (20)). Most of the management measures for the limited entry fishery are listed above and in Tables 3 and 4, and may be changed during the year by announcement in the Federal Register. However, the management regimes for several fisheries (nontrawl sablefish, Pacific whiting, and black rockfish) do not neatly fit into these tables and are addressed immediately following Tables 3 and 4.

BILLING CODE 3510-22-S

BILLING CODE 3510-22-C

(2) Sablefish. The limited entry sablefish allocation is further allocated 58 percent to trawl gear and 42 percent to nontrawl gear. See footnote e/ of Table 1a.

(a) Trawl trip and size limits. Management measures for the limited entry trawl fishery for sablefish are listed in Table 3.

(b) Nontrawl trip and size limits. To take, retain, possess, or land sablefish during the regular or mop-up season for the nontrawl limited entry sablefish fishery, the owner of a vessel must hold a limited entry permit for that vessel, affixed with both a gear endorsement for longline or trap (or pot) gear, and a sablefish endorsement. (See 50 CFR 663.23(a)(2)(i).) A sablefish endorsement is not required to participate in the limited entry daily trip limit fishery.

(i) Regular and mop-up seasons. Starting and ending dates for the regular and mop-up seasons, and the size of the cumulative trip limits for the regular and mop-up seasons (see 50 CFR 660.323(a)(2)) will be announced later in the year.

(ii) Daily trip limit. The daily trip limit, which is listed in Table 4 and which applies to sablefish of any size, is in effect north of 36° N. lat. until the closed periods before or after the regular season as specified at 50 CFR 660.323(a)(2), between the end of the regular season and the beginning of the mop-up season, and after the mop-up season. The daily trip limit for sablefish taken and retained with nontrawl gear south of 36° N. lat. also is listed in Table 4, and continues throughout the year unless otherwise announced in the Federal Register because the regular and mop-up seasons do not apply south of 36° N. lat.

(3) Whiting. Additional regulations that apply to the whiting fishery are found at 50 CFR 660.306 and at 50 CFR 660.323(a)(3) and (a)(4).

(a) Allocations. The nontribal allocations are HGs, based on percentages that are applied to the commercial OY of 162,900 mt in 2001 (see 50 CFR 660.323(a)(4)), as follows:

(i) Catcher/processor sector--55,386 mt (34 percent);

(ii) Mothership sector--39,096 mt (24 percent);

(iii) Shore-based sector--68,418 mt (42 percent). No more than 5 percent (3,421 mt) of the shore-based whiting allocation may be taken before the shore-based fishery begins north of 42° N. lat.

(iv) Tribal allocation--See paragraph V.

(b) Seasons. The 2001 primary seasons for the whiting fishery start on the same dates as in 2000, as follows (see 50 CFR 660.323(a)(3)):

(i) Catcher/processor sector--May 15;

(ii) Mothership sector--May 15;

(iii) Shore-based sector--June 15 north of 42° N. lat.; April 1 between 42°-40°30' N. lat.; April 15 south of 40°30' N. lat.

(c) Trip limits. (i) Before and after the regular season. The “per trip” limit for whiting before and after the regular season for the shore-based sector is announced in Table 3, as authorized at 50 CFR 660.323(a)(3) and (a)(4). This trip limit includes any whiting caught shoreward of 100 fathoms (183 m) in the Eureka area.

(ii) Inside the Eureka 100-fm (183 m) contour. No more than 10,000 lb (4,536 kg) of whiting may be taken and retained, possessed, or landed by a vessel that, at any time during a fishing trip, fished in the fishery management area shoreward of the 100-fathom (183-m) contour (as shown on NOAA Charts 18580, 18600, and 18620) in the Eureka area.

(4) Black rockfish. The regulations at 50 CFR 660.323(a)(1) state: The trip limit for black rockfish (Sebastes melanops) for commercial fishing vessels using hook-and-line gear between the U.S.-Canada border and Cape Alava (48°09'30'' N. lat.) and between Destruction Island (47°40'00'' N. lat.) and Leadbetter Point (46°38'10'' N. lat.), is 100 lb (45 kg) or 30 percent, by weight of all fish on board, whichever is greater, per vessel per fishing trip." These "per trip" limits apply to limited entry and open access fisheries, in conjunction with the cumulative trip limits and other management measures listed in Tables 4 and 5 of Section IV. The crossover provisions at paragraphs IV.A. (12) do not apply to the black rockfish per-trip limits.

C. Trip Limits in the Open Access Fishery

Open access gear is gear used to take and retain groundfish from a vessel that does not have a valid permit for the Pacific coast groundfish fishery with an endorsement for the gear used to harvest the groundfish. This includes longline, trap, pot, hook-and-line (fixed or mobile), set net and trammel net (south of 38° N. lat. only), and exempted trawl gear (trawls used to target non-groundfish species: pink shrimp or prawns, and, south of Pt. Arena, CA (38°57'30" N. lat.), California halibut or sea cucumbers). Unless otherwise specified, a vessel operating in the open access fishery is subject to, and must not exceed any trip limit, frequency limit, and/or size limit for the open access fishery. The crossover provisions at paragraph IV.A.(12) that apply to the limited entry fishery apply to the open access fishery as well.

(1) All open access gear except exempt trawl gear. The trip limits, size limits, seasons, and other management measures for open access groundfish gear, except exempted trawl gear, are listed in Table 5. The trip limit at 50 CFR 660.323(a)(i) for black rockfish caught with hook-and-line gear also applies. (The black rockfish limit is repeated at paragraph IV.B.4.)

BILLING CODE 3510-22-S

BILLING CODE 3510-22-C

(2) Groundfish taken with exempted trawl gear by vessels engaged in fishing for spot and ridgeback prawns, California halibut, or sea cucumbers. (a) Trip limits. The trip limit is 300 lb (136 kg) of groundfish per fishing trip. Limits and closures in Table 5 also apply and are counted toward the 300 lb (136 kg) groundfish limit. In any landing by a vessel engaged in fishing for spot and ridgeback prawns, California halibut, or sea cucumbers with exempted trawl gear, the amount of groundfish landed may not exceed the amount of the target species landed, except that the amount of spiny dogfish (Squalas acanthias) landed may exceed the amount of target species landed. Spiny dogfish are limited by the 300 lb (136 kg) per trip overall groundfish limit. The daily trip limits for sablefish coastwide and thornyheads south of Pt. Conception and the overall groundfish “per trip” limit may not be multiplied by the number of days of the fishing trip.

(b) State law. These trip limits are not intended to supersede any more restrictive state law relating to the retention of groundfish taken in shrimp or prawn pots or traps.

(c) Participation in the California halibut fishery. A trawl vessel will be considered participating in the California halibut fishery if:

(i) It is not fishing under a valid limited entry permit issued under 50 CFR 660.333 for trawl gear;

(ii) All fishing on the trip takes place south of Pt. Arena; and

(iii) The landing includes California halibut of a size required by California Fish and Game Code section 8392(a), which states: “No California halibut may be taken, possessed or sold which measures less than 22 inches (56 cm) in total length, unless it weighs 4 lbs (1.8144 kg) or more in the round, 3 and one-half lbs (1.587 kg) or more dressed with the head on, or 3 lbs (1.3608 kg) or more dressed with the head off. Total length means “the shortest distance between the tip of the jaw or snout, whichever extends farthest while the mouth is closed, and the tip of the longest lobe of the tail, measured while the halibut is lying flat in natural repose, without resort to any force other than the swinging or fanning of the tail.”

(d) Participation in the sea cucumber fishery. A trawl vessel will be considered to be participating in the sea cucumber fishery if:

(i) It is not fishing under a valid limited entry permit issued under 50 CFR 660.333 for trawl gear;

(ii) All fishing on the trip takes place south of Pt. Arena; and

(iii) The landing includes sea cucumbers taken in accordance with California Fish and Game Code, section 8396, which requires a permit issued by the State of California.

(3) Groundfish taken with exempted trawl gear by vessels engaged in fishing for pink shrimp . (a) The trip limit is 500 lb (227 kg) of groundfish per day, multiplied by the number of days of the fishing trip, but not to exceed 1,500 lb (680 kg) of groundfish per trip. The following sublimits also apply and are counted toward the overall 500 lb (227 kg) per day and 1,500 lb (680 kg) per trip groundfish limits:

(i) Canary rockfish:

(A) April 1 through 30, 2001: 50 lb (23 kg) per month

(B) Starting May 1, 2001: 200 lb (91 kg) per month

(ii) Lingcod:

(A) April 1 through 30, 2001: closed

(B) Starting May 1, 2001: 400 lb (181 kg) per month, with a minimum size limit (total length) of 24 inches (61 cm) north of 40°10' N. lat. and 26 inches (66 cm) south of 40°10' N. lat.

(C) November 1 through December 31: closed.

(iii) Sablefish: Starting April 1, 2001: 2,000 lb (907 kg) per month.

(iv) Thornyheads: Closed north of Pt. Conception (34°27' N. lat.)

(b) For all other groundfish species, the trip limits in Table 5 apply to groundfish taken with exempted trawl gear by vessels engaged in fishing for pink shrimp and count toward the overall 500 lb (227 kg) per day and 1,500 lb (680 kg) per trip groundfish limits.

(c) In any trip in which pink shrimp trawl gear is used, the amount of groundfish landed may not exceed the amount of pink shrimp landed.

(d) Operating in pink shrimp and other fisheries during the same cumulative trip limit period. Notwithstanding section IV.A.(11), a vessel that takes and retains pink shrimp and also takes and retains groundfish in either the limited entry or another open access fishery during the same applicable cumulative limit period that it takes and retains pink shrimp (which may be 1 month or 2 months, depending on the fishery and the time of year), the vessel may retain the larger of the two limits, but only if the limit(s) for each gear or fishery are not exceeded when operating in that fishery or with that gear. The limits are not additive; the vessel may not retain a separate trip limit for each fishery.

(4) Landings in Pacific City, OR. For purposes of this paragraph, Pacific City, OR, is the area between 45°03'50” N. lat. and 45°20'15” N. lat.

(a) January 1 to March 31, 2001; October 1 to December 31, 2001: No more than 200 lb (91 kg) of minor nearshore rockfish may be landed per month in Pacific City, OR.

(b) April 1 to September 30, 2001: No more than 2,200 lb (998 kg) of minor nearshore rockfish may be landed per month in Pacific City, OR. Within the 2,200 lb (998 kg) monthly limit, no more than 700 lb (318 kg) may be species other than black or blue rockfish.

D. Recreational Fishery

(1) California. [Note: California law provides that, in times and areas when the recreational fishery is open, there is 20-fish bag limit for all species of finfish, within which no more than 10 fish of any one species may be taken or possessed by any one person.] For each person engaged in recreational fishing seaward of California, the following seasons and bag limits apply:

(a) Rockfish. (i) Cowcod Conservation Areas. Recreational fishing for groundfish is prohibited within the Cowcod Conservation Areas, as described above at IV.A.(20), except that fishing for minor nearshore rockfish is permissible in waters inside of the 20-fathom (36.9 m) depth contour.

(ii) Seasons. North of 40°10' N. lat., recreational fishing for rockfish is open from January 1 through December 31. South of 40°10' N. lat. and north of Point Conception (34°27' N. lat.), recreational fishing for rockfish is closed from March 1 through April 30. This area is also closed to recreational rockfish fishing from May 1 through June 30, except that fishing for minor nearshore rockfish is permitted inside the 20-fathom (36.9 m) depth contour. South of Point Conception (34°27' N. lat.), recreational fishing for rockfish is closed from January 1 through February 28, except that fishing for minor nearshore rockfish is permitted inside the 20-fathom (36.9 m) depth contour. Recreational fishing for cowcod is prohibited all year in all areas.

(iii) Bag limits, boat limits, hook limits. In times and areas when the recreational season for rockfish is open, there is a 2-hook limit per fishing line, and the bag limit is 10 rockfish per day, of which no more than 2 may be bocaccio (Sebastes paucispinis) and no more than 1 may be canary rockfish. Cowcod may not be retained. Bocaccio and canary rockfish are not minor nearshore rockfish and thus, may not be retained in the area between 40°10' N. lat. and Point Conception (34°27' N. lat.) from May 1 through June 30. [Note: California scorpionfish, Scorpaena guttata, are subject to California’s 10-fish bag limit per species, but are not counted toward the 10-rockfish bag limit.] Multi-day limits are authorized by a valid permit issued by California and must not exceed the daily limit multiplied by the number of days in the fishing trip.

(iv) Size limits. The following rockfish size limits apply: bocaccio may be no smaller than 10 inches (25 cm), and California scorpionfish may be no smaller than 10 inches (25 cm).

(v)Dressing/Fileting . Rockfish skin may not be removed when fileting or otherwise dressing rockfish taken in the recreational fishery. The following rockfish filet size limits apply: bocaccio filets may be no smaller than 5 inches (12.8 cm); California scorpionfish filets may be no smaller than 5 inches (12.8 cm); and brown-skinned rockfish filets may be no smaller than 6.5 inches (16.6 cm). “Brown-skinned” rockfish include the following species: brown (S. auriculatus), calico (S. dalli), copper (S. caurinus), gopher (S. carnatus), kelp (S. atrovirens), olive (S. serranoides), speckled (S. ovalis), squarespot (S. hopinski), and yellowtail (S. flavidus).

(b) Roundfish (Lingcod, cabezon, kelp greenling--(i) Seasons. South of 40°10' N. lat. and north of Point Conception (34°27' N. lat.), recreational fishing for lingcod is closed from March 1 through June 30. South of Point Conception (34°27' N. lat.), recreational fishing for lingcod is closed from January 1 through February 28.

(iii) Bag limits, boat limits, hook limits. In times and areas when the recreational season for lingcod is open, there is a 2-hook limit per fishing line, and the bag limit is 2 lingcod per day. Multi-day limits are authorized by a valid permit issued by California and must not exceed the daily limit multiplied by the number of days in the fishing trip.

(iv) Size limits. The following roundfish size limits apply: lingcod may be no smaller than 26 inches (66 cm) total length, cabezon (Scorpaenichthys marmoratus) may be no smaller than 15 inches (38 cm); and kelp greenling (Hexagrammos decagrammus) may be no smaller than 12 inches (30 cm).

(v) Dressing/Fileting. Cabezon and kelp greenling taken in the recreational fishery may not be fileted at sea. Lingcod filets may be no smaller than 18 inches (46.1 cm).

(2) Oregon. The bag limits for each person engaged in recreational fishing seaward of Oregon are: 1 lingcod per day, which may be no smaller than 24 inches (61 cm) total length; and 10 rockfish per day, of which no more than 1 may be canary rockfish.

(3) Washington. For each person engaged in recreational fishing seaward of Washington, the following seasons and bag limits apply:

(a) Rockfish. There is a rockfish bag limit of no more than 10 rockfish per day, of which no more than 2 may be canary or yelloweye rockfish (S. ruberrimus).

(b) Lingcod. Recreational fishing for lingcod is closed between January 1, 2001, and March 15, 2001, and between October 15, 2001, and December 31, 2001. When the recreational season for lingcod is open, there is a bag limit of 2 lingcod per day, which may be no smaller than 24 inches (61 cm) total length.

V. Washington Coastal Tribal Fisheries

In 1994, the U.S. government formally recognized that the four Washington Coastal Tribes (Makah, Quileute, Hoh, and Quinault) have treaty rights to fish for groundfish, and concluded that, in general terms, the quantification of those rights is 50 percent of the harvestable surplus of groundfish available in the tribes' usual and accustomed (U and A) fishing areas (described at 50 CFR 660.324).

A tribal allocation is subtracted from the species OY before limited entry and open access allocations are derived. The treaty tribal fisheries for sablefish, black rockfish, and whiting are separate fisheries, not governed by the limited entry or open access regulations or allocations. The tribes regulate these fisheries so as not to exceed their allocations.

The tribal allocation for black rockfish is the same in 2001 as in 2000. As with non-tribal sablefish allocations, the tribal allocation for sablefish in 2001 is revised from prior years. In the past, 10 percent of the total catch OY was deducted for discard in all fisheries. Then, the tribal sablefish allocation was set at 10 percent of that landed catch OY, with the remaining 90 percent divided between various non-tribal fisheries. For 2001 and beyond, the Council recommended dividing the total catch OY according to the customary allocations for all sectors, including 10 percent for the tribes, and then reducing the allocations for each fishing sector by sector-specific discard mortality rates. Tribal sablefish fisheries are primarily longline fisheries and are estimated to have a 3-percent discard mortality rate. Thus, the tribal sablefish allocation is 10 percent of the total catch OY, 689.5 mt, less 3 percent discard mortality (20.7 mt), or approximately 669 mt.

For 2001, the tribes proposed a Pacific whiting allocation of 27,500 mt, and the Council voted to adopt this proposal. The 2001 allocation is based on a “sliding scale” proposal presented by the Makah Tribe in 1998 that determines the tribal allocation based on the level of the overall U.S. OY. The “sliding scale” proposal was previously used in both 1999 and 2000 to determine the tribal allocation. As discussed earlier, the U.S. whiting OY is reduced in 2001, based on lower estimated stock abundance, to 190,400 mt. Under the 1998 Makah “sliding scale” proposal, a 190,400 mt U.S. OY results in a 27,500 mt Makah whiting allocation. No other tribes proposed to harvest whiting in 2001.

The right of the Washington coastal treaty tribes to harvest Pacific whiting in accordance with the legal principles established in the ongoing case of U.S. v. Washington, No. 9213, Phase I (W.D. Wash), was sustained in Subproceeding 96-2, Order Granting Makah's Motion for Summary Judgment (Nov. 5, 1996), and in the separate, consolidated cases of Midwater Trawlers Cooperative v. U.S. Department of Commerce, Civ. Nos. 96-808R, C96-671R, C99-415R, and C99-500R (W.D. Wash.), Order Granting Defendants' Motions for Summary Judgment (July 26, 2000). In the latter cases, the court held that the tribes have a treaty right to harvest Pacific whiting; that the Federal defendants did not act arbitrarily and capriciously in recognizing the tribes' right; that the Secretary of Commerce did not act arbitrarily and capriciously in extending the tribes' usual and accustomed fishing areas into the United States' exclusive economic zone; that the Secretary appropriately recognized the tribes as co-managers of the shared resources in the final rule providing for tribal groundfish allocations (see 50 CFR 660.324(d)); and that the 1999 tribal allocation, which represented a compromise of different views of the treaty entitlement, was not arbitrary and capricious. This decision has been appealed to the Ninth Circuit Court of Appeals by non-treaty fishers and by the State of Oregon, and briefs will be submitted in the near future.

Quantification of the treaty right remains an issue. Under the applicable treaty rights law, Washington coast treaty tribes have treaty rights to harvest half the harvestable surplus of whiting found in their usual and accustomed fishing areas, determined according to the conservation necessity principle. The conservation necessity principle means that the determination of the amount of fish available for harvest must be based solely on resource conservation needs. This determination is difficult because, with the exception of cases involving Pacific halibut (Makah v. Brown Civil No. C-85- 1606R (W.D. Wash.) and U.S. v. Washington, Subproceeding No. 92-1 (W.D. Wash.)), the legal and technical precedents are based on the biology, harvest, and conservation requirements for Pacific salmon and shellfish, which are very different than Pacific whiting. Quantifying the tribal right to Pacific whiting is further complicated by data limitations, and by scientific uncertainties surrounding Pacific whiting biology and conservation needs.

In 1996, the Makah initiated a subproceeding in U.S. v. Washington, Civil No. 9213-Phase I, Subproceeding No. 96-2, regarding their treaty right to whiting, including the issue of the appropriate quantification of that right. This subproceeding is ongoing, with briefing scheduled on the quantification issue in early 2001. However, taking into account the existing case law in U.S. v. Washington, the Makah Tribe's 1998 “sliding scale” proposal and its supporting materials, the Council's recommendation for the 2001 tribal allocation, and the continuing uncertainties surrounding a precise quantification of the tribal right, NMFS will allocate 27,500 mt of Pacific whiting in 2001 to the Makah Tribe.

For some species on which the tribes have a modest harvest, no specific allocation has been determined. Rather than try to reserve specific allocations for the tribes, which may not be needed by the tribes, NMFS is establishing trip limits recommended by the tribes and the Council to accommodate modest tribal fisheries. For lingcod, all tribal fisheries are restricted to 300 lb (126 kg) per trip. Tribal fisheries are not expected to take more than 3 mt of lingcod in 2001. For the Sebastes complex and other rockfish species, the 2001 tribal longline and trawl fisheries will operate under trip and cumulative limits. Tribal fisheries will operate under 300 lb (136 kg) per trip limits each for canary rockfish and for thornyheads, and under the same trip limits as the limited entry fisheries for all other rockfish. A 300-lb (136-kg) canary rockfish trip limit is expected to result in landings of 1,000-2,000 lb (0.5-1 mt). A 300-lb (136-kg) thornyhead limit is expected to result in landings of 8,000-9,000 lb (3-4 mt). Because of the small expected tribal groundfish catch, it is not anticipated that tribal trip limits will be reduced during the year unless OY's are achieved or unless inseason catch statistics demonstrate that the tribes have taken half of the available harvest in the tribal U and A fishing areas.

The Assistant Administrator (AA) announces the following tribal allocations for 2001, including those that are the same as in 2000. Trip limits for certain species were recommended by the tribes and the Council and are specified here with the tribal allocations:

A. Sablefish

The tribal allocation is 669 mt, 10 percent of the total catch OY, less 3 percent estimated discard mortality.

B. Rockfish

(1) For the commercial harvest of black rockfish off Washington State, a HG of: 20,000 lb (9,072 kg) north of Cape Alava (48°09'30” N. lat.) and 10,000 lb (4,536 kg) between Destruction Island (47°40′00” N. lat.) and Leadbetter Point (46°38'10” N. lat.).

(2) Thornyheads are subject to a 300-lb (136-kg) trip limit.

(3) Canary rockfish are subject to a 300-lb (136-kg) trip

(4) Other rockfish are subject to the same trip limits as the limited entry fishery, as published in this document. The tribal limit will not change unless the tribal limits are revised separately from the limited entry limits.

C. Lingcod

Lingcod are subject to a 300-lb (136-kg) trip limit.

D. Pacific whiting

The tribal allocation is 27,500 mt.

VI. Issuance of Exempted Fishing Permits (EFPs)

At the November 2000, Council meeting, NMFS received an application from the States of Washington, Oregon, and California for renewal of the EFPs for the shore-based whiting fishery for 2001. An opportunity for public comment was provided during the Council meeting. The Council recommended that NMFS issue the EFPs, as requested by the States. Renewal of these EFPs, to about 40 vessels, would continue an ongoing program to collect information on the incidental catch of salmon and non-whiting groundfish in whiting harvests delivered to shore-based processing facilities.

Because whiting deteriorates rapidly, it must be handled quickly and immediately chilled to maintain the quality. As a result, many vessels dump catch directly or near directly into the hold and are unable to effectively sort their catch. The issuance of EFPs will allow vessels to delay sorting of prohibited species and groundfish caught in excess of cumulative trip limits until offloading. Delaying sorting until the vessel offloads will allow state biologists to collect incidental catch data for total catch estimates while maintaining whiting quality. Without an EFP, groundfish regulations at 50 CFR 660.306(b) require vessels to sort out prohibited species and return them to sea as soon as practicable with minimum injury. To allow state biologists to sample unsorted whiting, it is also necessary to include provisions for potential overages of groundfish trip limits which would be otherwise prohibited by regulations at 50 CFR 660.306(h). NMFS approves the request to renew the EFP for the shore-based whiting fishery in 2001.

Classification

The final specifications and management measures for 2001 are issued under the authority of, and are in accordance with, the Magnuson-Stevens Act, the FMP, and 50 CFR parts 600 and 660 subpart G (the regulations implementing the FMP).

This package of specifications and management measures is a delicate balance designed to allow as much harvest of healthy stocks as possible, while protecting overfished and other depressed stocks. Delay in implementation of the measures could upset that balance and cause harm to some stocks and it could require unnecessarily restrictive measures later in the year to make up for the late implementation. Much of the data necessary for these specifications and management measures came from the current fishing year. The Assistant Administrator for Fisheries, NOAA (AA) has determined that there is good cause under 5 U.S.C. 553(b)(B) to waive prior notice and opportunity for public comment for the specifications and management measures. Because of the timing of the receipt, development, review, and analysis of the fishery information necessary for setting the initial specifications and management measures, and the need to have these specifications and management measures in effect at the beginning of the 2001 fishing year, Amendment 4 to the FMP, implemented on January 1, 1991, recognized these timeliness considerations and set up a system by which the interested public is notified, through Federal Register publication and Council mailings, of Council meetings and of the development of these measures and is provided the opportunity to comment during the Council process. The public participated in GMT, Groundfish Advisory Subpanel, SSC, and Council meetings in September and November 2000 where these recommendations were formulated. Additional public comments on the specifications and management measures will be accepted for 30 days after publication of this document in the Federal Register.

There is no burden for the public to come into compliance with the harvest specifications and management measures designed to achieve those specifications that are announced by this rule. As described above, the interested public has participated in the Council process to formulate these regulations. The Council has provided information to the industry on the above management measures and specifications through the newsletters that it sends to fishery participants. Moreover, NMFS has provided notice through the U.S. Coast Guard Notice to Mariners, and the states of Washington, Oregon, and California also disseminate information. Therefore, the AA finds, for good cause under 5 U.S.C. 553(d)(3), that it is unnecessary to delay for 30 days the effective date of the specifications and management measures. Because of the need to have these specifications and management measures in effect as close to the beginning of the 2001 fishing year as possible, the AA also finds, for good cause under 5 U.S.C. 553(d)(3), that it is contrary to the public interest to delay for 30 days the effective date of the specifications and management measures.

This action has been determined to be not significant for purposes of Executive Order 12866.

Because prior notice and opportunity for public comment are not required for the annual specifications and management measures by 5 U.S.C. 553, or any other law, the analytical requirements of the Regulatory Flexibility Act, 5 U.S.C. 601 et seq., are not applicable.

This action refers to a collection-of-information requirements subject to the Paperwork Reduction Act (PRA). Permit requirements have been approved by OMB under control number 0648-203 for Federal fisheries permits. The public reporting burden for applications for exempted fishery permits is estimated at 1 hour per response; the burden for reporting by exempted fishing permittees is estimated at 30 minutes per response. These estimates include the time for reviewing instructions, searching existing data sources, gathering and maintaining the data needed, and completing and revising the collection of information. Send comments regarding these burden estimates or any other aspect of the data requirements, including suggestions for reducing the burden to NMFS and to OMB (see ADDRESSES).

Notwithstanding any other provisions of the law, no person is required to respond to, nor shall a person be subject to a penalty for failure to comply with, a collection of information subject to the requirements of the PRA, unless that collection of information displays a currently valid OMB control number.

The President has directed Federal agencies to use plain language in their communications with the public, including regulations. To comply with this directive, we seek public comment on any ambiguity or unnecessary complexity arising from the language used in this rule (see ADDRESSES).

NMFS issued Biological Opinions (BOs) under the Endangered Species Act on August 10, 1990, November 26, 1991, August 28, 1992, September 27, 1993, May 14, 1996, and December 15, 1999 pertaining to the effects of the groundfish fishery on chinook salmon (Puget Sound, Snake River spring/summer, Snake River fall, upper Columbia River spring, lower Columbia River, upper Willamette River, Sacramento River winter, Central Valley, California coastal), coho salmon (Central California coastal, southern Oregon/northern California coastal, Oregon coastal), chum salmon (Hood Canal, Columbia River), sockeye salmon (Snake River, Ozette Lake), steelhead (upper, middle and lower Columbia River, Snake River Basin, upper Willamette River, central California coast, California Central Valley, south-central California, southern California), and cutthroat trout (Umpqua River, southwest Washington/Columbia River). NMFS has concluded that implementation of the FMP for the Pacific Coast groundfish fishery is not expected to jeopardize the continued existence of any endangered or threatened species under the jurisdiction of NMFS, or result in the destruction or adverse modification of critical habitat. This action is within the scope of these consultations. NMFS has re-initiated consultation on the Pacific whiting fishery associated with the BO issued on December 15, 1999. During the 2000 whiting season, the whiting fisheries exceeded the chinook bycatch amount specified in the Biological Opinion's incidental take statement’s incidental take estimates, 11,000 fish, by approximately 500 fish. The re-initiation will focus primarily on additional actions that the whiting fisheries would take to reduce chinook interception, such as time/area management. NMFS expects that the re-initiated BO will be complete by May 2001. During the reinitiation, fishing under the FMP is within the scope of the December 15, 1999 BO, so long as the annual incidental take of chinook stays under the 11,000 fish bycatch limit. Because the majority of the catch will occur in late spring and summer. It is highly unlikely that the 11,000 fish bycatch limit will be exceeded.

The Council prepared an Environmental Impact Statement (EIS) for the FMP in 1982 and prepared Supplemental EISs for Amendments 4(1990) and 6 (1992) in accordance with the National Environmental Policy Act (NEPA). In addition, the Council prepared an environmental assessment for this action.

This action would set 2001 fishery specification and management measures that are designed to rebuild overfished stocks through constraining direct and incidental mortality, to prevent overfishing, and to achieve as much of the OYs as practicable for healthier groundfish stocks managed under the FMP. Five species managed under the FMP have been determined to be overfished: lingcod, bocaccio, POP, canary rockfish, and cowcod. NMFS is declaring two additional species (widow and darkblotched rockfish) overfished. Under the Magnuson-Stevens Act requirements for protecting overfished species, the 2001 management measures have been designed to keep directed and incidental catch of overfished species at levels that will allow those species to rebuild their populations. For 2001, commercial landings limits and recreational bag limits have been reduced, and time area closures have been expanded to protect overfished species. These fisheries have been operating under protective measures for several years.

Based on the biological, physical and socio-economic impacts of the alternatives that have been assessed in the EA, it was determined that implementation of the 2001 specifications and management measures would not significantly affect the quality of the human environment. Therefore, the preparation of an EIS for this action is not required by Section 102(2)(C) of NEPA or its implementing regulations.

Dated: January 4, 2001.
William T. Hogarth,
Deputy Assistant Administrator for Fisheries, National Marine Fisheries Service.

[FR Doc. 01-560 Filed 1-5-01; 4:17 pm]

BILLING CODE 3510-22-S